ENVIRONMENTAL PROTECTION AGENCY

40 CFR Parts 60 and 61

[AZ, CA, HI, NV, GU-075-NSPS; FRL-7201-2]

Delegation of New Source Performance Standards and National Emission Standards for Hazardous Air Pollutants for Guam and the States of Arizona, California, Hawaii, and Nevada

AGENCY: Environmental Protection Agency (EPA).

ACTION: Final rule.

SUMMARY: EPA is finalizing updates for delegation of certain federal standards to state and local agencies in Region IX. This document is addressing general authorities mentioned in the regulations for New Source Performance Standards and National Emission Standards for Hazardous Air Pollutants, updating the delegations tables and clarifying those authorities that are retained by EPA. These revisions were proposed in the Federal Register on January 14, 2002.

EFFECTIVE DATE: This rule is effective on May 28, 2002.

ADDRESSES: You can inspect copies of the administrative record for this action at EPA's Region IX office during normal business hours at the following location: U.S. Environmental Protection Agency, Region IX, 75 Hawthorne Street, San Francisco, CA 94105-3901.

Please contact Cynthia G. Allen at (415) 947-4120 to arrange a time if inspection of the supporting information is desired.

FOR FURTHER INFORMATION CONTACT: Cynthia G. Allen at (415) 947-4120 or Mae Wang at (415) 947-4124, U.S. Environmental Protection Agency, Region IX, Rulemaking Office (AIR-4), 75 Hawthorne Street, San Francisco, California 94105.

SUPPLEMENTARY INFORMATION: The supplementary information is organized in the following order:

What Is the Purpose of This Document?

Who Is Authorized to Delegate These Authorities?

What Does Delegation Accomplish?

What Authorities Are Not Delegated By EPA?

Does EPA Keep Some Authority?

Public Comments

Changes from Proposal

Administrative Requirements

What Is the Purpose of This Document?

Through this document, EPA is accomplishing the following objectives:

(1) update the delegations tables in the Code of Federal Regulations, Title 40 (40 CFR), parts 60 and 61, to provide an accurate listing of the delegated standards; and

(2) clarify those authorities that are retained by EPA and not granted to state or local agencies as part of delegation. These actions were proposed on January 14, 2002, (67 FR 1676) and are described below.

Update of Tables in the CFR

Today's action will update the delegation tables in 40 CFR parts 60 and 61, to allow easier access by the public to the status of delegations in various state or local jurisdictions. The updated delegation tables will include the delegations approved in response to recent requests, as well as those previously granted. The tables are shown at the end of this document. EPA is also updating the addresses for state and local agencies within the jurisdiction of EPA Region IX.

Recent requests for delegation that will be incorporated into the updated CFR tables are identified below. Each individual submittal identifies the specific NSPS and NESHAPs for which delegation was requested. Some of these requests have already been approved and simply need to be included in the CFR. For requests listed below that have not yet been approved, EPA will consider these delegation requests as approved on the effective date of this final rule.

Agency | Date of request
Arizona Department of Environmental Quality | May 29, 1998, and October 6, 1999.
Kern County Air Pollution Control District | February 8, 1995, January 20, 2000, and May 18, 2001.
Lake County Air Quality Management District | February 24, 1997.
Mendocino County Air Quality Management District | May 21, 1999.
Sacramento Metropolitan Air Quality Management District | August 7, 1995, April 24, 1997, and July 7, 1998.
San Diego Air Pollution Control District | June 23 and December 24, 1999.
San Joaquin Valley Unified Air Pollution Control District | May 27, 1999, and June 26, 2000.
Santa Barbara County Air Pollution Control District | August 6, 1996.
South Coast Air Quality Management District | February 20, 2002.
Ventura County Air Pollution Control District | February 9, 1995.
Yolo-Solano Air Quality Management District | October 20, 1998.

Today's action is also updating the names and addresses of local air pollution control districts (APCDs) as listed in the CFR. The addresses and delegation tables will reflect the following changes:

• The San Joaquin Valley Unified APCD assumed the authority and duties of Fresno County APCD, Kings County APCD, the San Joaquin Valley Air Basin portion of Kern County APCD, Madera County APCD, Merced County APCD, San Joaquin County APCD, Stanislaus County APCD, and Tulare County APCD. The Kern County Air Pollution Control District still exists, but only has authority over the Southeast Desert Air Basin portion of Kern County.

• The North Coast Unified APCD assumed the authorities and duties of Del Norte County APCD, Humboldt County APCD, and Trinity County APCD.

• The Mojave Desert Air Quality Management District assumed the authorities and duties of the San Bernadino County APCD, and includes all of the County of San Bernadino that is not included within the boundaries of the South Coast Air Quality Management District.

• The Antelope Valley APCD was created and has responsibility over the Los Angeles County portion of the Mojave Desert Air Basin.

In the future, EPA Region IX may establish a new procedural option for state and local agencies to receive delegation of 40 CFR parts 60 and 61 standards. If an agency has delegation of a standard, then the new procedure may allow that agency to receive delegation of any amendments to that standard as they are adopted by reference. The details of any new procedure will be described in a future rulemaking action before it is implemented. It is being mentioned here for informational purposes only.

Clarification of Non-Delegable Authorities

In February 1999, EPA released a guidance document entitled, “How to Review and Issue Clean Air Act Applicability Determinations and Alternative Monitoring—NSPS & NESHAPS, (EPA 305-B-99-004).” In accordance with this guidance, today's action clarifies the NSPS and NESHAP authorities that are not delegated to state and local agencies under Clean Air Act Sections 111 and 112. These clarifications will be codified at 40 CFR 60.4(d) and 61.04(c)(9). Today's action also requests that state and local agencies exclude the non-delegable subsections from future delegation requests, and informs the public of our intention to appropriately revise future delegation letter approvals and Federal Register announcements.

Who Is Authorized To Delegate These Authorities?

Sections 111(c)(1) and 112(l) of the Clean Air Act, as amended in 1990, authorize the Administrator to delegate his or her authority for implementing and enforcing standards in 40 CFR parts 60 and 61.

What Does Delegation Accomplish?

Delegation grants a state or local agency the primary authority to implement and enforce federal standards. All required notifications and reports should be sent to the delegated state or local agency, as appropriate, with a copy to EPA Region IX. Acceptance of delegation constitutes agreement by the state or local agency to follow 40 CFR parts 60 and 61, and EPA's test methods and continuous monitoring procedures.

What Authorities Are Not Delegated By EPA?

In general, EPA does not delegate to state or local agencies the authority to make decisions that are likely to be nationally significant, or alter the stringency of the underlying standards. For a more detailed description of the authorities in 40 CFR parts 60 and 61 that are retained by EPA, please see the proposed rule published on January 14, 2002 (67 FR 1676).

As additional assurance of national consistency, state and local agencies must send to EPA Region IX Air Division's Enforcement Office Chief a copy of any written decisions made pursuant to the following delegated authorities:

• Applicability determinations that state a source is not subject to a rule or requirement;

• Approvals or determination of construction, reconstruction or modification;

• Minor or intermediate site-specific changes to test methods or monitoring requirements; or

• Site-specific changes or waivers of performance testing requirements.

For decisions that require EPA review and approval (for example, major changes to monitoring requirements), EPA intends to make determinations in a timely manner.

In some cases, the standards themselves specify that specific provisions cannot be delegated. State and local agencies should review each individual standard for this information.

Does EPA Keep Some Authority?

EPA retains independent authority to enforce the standards and regulations of 40 CFR parts 60 and 61.

Public Comments

EPA received one comment in response to the proposed rulemaking published on January 14, 2002, (67 FR 1676). This comment points out discrepancies in the delegations tables, but does not affect the overall action of this rule. The comment was sent from the South Coast Air Quality Management District (SCAQMD), and notes that the delegation of 40 CFR part 60, subpart RRR, was omitted from the tables. This has been corrected in today's action. The SCAQMD also requested delegation for 40 CFR part 60, subparts Eb, Ec, and WWW. A request for delegation for these standards was received on February 20, 2002, and is being approved in today's rule.

Changes From Proposal

EPA has made changes to the delegations tables that were proposed on January 14, 2002 (67 FR 1676).These changes are a result of the public comments received, as well as corrections to the headings and delegation status for various local agencies. The NESHAP delegations table for Nevada was omitted in the proposed rulemaking and has been added to this final rule. None of the changes affect the overall action that was proposed.

Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal government and Indian tribes, or on the distribution of power and responsibilities between the Federal government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045, “Protection of Children from Environmental Health Risks and Safety Risks” (62 FR 19885, April 23, 1997), because it is not economically significant.

In reviewing delegation requests, EPA's role is to approve state choices, provided that they meet the criteria of the Clean Air Act. In this context, in the absence of a prior existing requirement for the State to use voluntary consensus standards (VCS), EPA has no authority to disapprove a delegation request for failure to use VCS. It would thus be inconsistent with applicable law for EPA, when it reviews a request for delegation, to use VCS in place of a submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by June 25, 2002. Filing a petition for reconsideration by the Administrator of this final rule does not affect the finality of this rule for the purposes of judicial review nor does it extend the time within which a petition for judicial review may be filed, and shall not postpone the effectiveness of such rule or action. This action may not be challenged later in proceedings to enforce its requirements (see section 307(b)(2)).

List of Subjects in 40 CFR Parts 60 and 61

Environmental protection, Administrative practice and procedure, Air pollution control, Hazardous substances, Intergovernmental relations, Reporting and recordkeeping requirements.

Dated: April 3, 2002.
Amy Zimpfer,
Acting Director, Air Division, Region IX.

For the reasons set out in the preamble, title 40, chapter I, of the Code of Federal Regulations is amended as follows:

PART 60—[AMENDED]

1. The authority citation for part 60 continues to read as follows:

Authority: 42 U.S.C. 7401 et seq.

Subpart A—General Provisions

2. Section 60.4 is amended:

a. In paragraph (a) by revising the address for “Region IX”.

b. By revising paragraph (b)(D).

c. By revising paragraph (b)(F).

d. By revising paragraph (b)(M).

e. By revising paragraph (b)(DD).

f. By revising paragraph (b)(AAA).

g. By adding paragraph (b)(DDD).

h. By adding paragraph (b)(EEE).

i. By adding paragraph (d).

The revisions and additions read as follows:

§ 60.4 Address.

(a) * * *

Region IX (American Samoa, Arizona, California, Guam, Hawaii, Nevada, Northern Mariana Islands), Director, Air Division, U.S. Environmental Protection Agency, 75 Hawthorne Street, San Francisco, CA 94105.

* * * * *

(b) * * *

(D) Arizona:

Arizona Department of Environmental Quality, Office of Air Quality, P.O. Box 600, Phoenix, AZ 85001-0600.

Maricopa County Air Pollution Control, 2406 S. 24th Street, Suite E-214, Phoenix, AZ 85034.

Pima County Department of Environmental Quality, 130 West Congress Street, 3rd Floor, Tucson, AZ 85701-1317.

Pinal County Air Quality Control District, Building F, 31 North Pinal Street, Florence, AZ 85232.

Note: For tables listing the delegation status of agencies in Region IX, see paragraph (d) of this section.

* * * * *

(F) California:

Amador County Air Pollution Control District, 500 Argonaut Lane, Jackson, CA 95642.

Antelope Valley Air Pollution Control District, 43301 Division Street, Suite 206, P.O. Box 4409, Lancaster, CA 93539-4409.

Bay Area Air Quality Management District, 939 Ellis Street, San Francisco, CA 94109.

Butte County Air Pollution Control District, 2525 Dominic Drive, Suite J, Chico, CA 95928-7184.

Calaveras County Air Pollution Control District, 891 Mountain Ranch Rd., San Andreas, CA 95249.

Colusa County Air Pollution Control District, 100 Sunrise Blvd., Suite F, Colusa, CA 95932-3246.

El Dorado County Air Pollution Control District, 2850 Fairlane Court, Bldg. C, Placerville, CA 95667-4100.

Feather River Air Quality Management District, 938 14th Street, Marysville, CA 95901-4149.

Glenn County Air Pollution Control District, 720 N. Colusa Street, P.O. Box 351, Willows, CA 95988-0351.

Great Basin Unified Air Pollution Control District, 157 Short Street, Suite 6, Bishop, CA 93514-3537.

Imperial County Air Pollution Control District, 150 South Ninth Street, El Centro, CA 92243-2801.

Kern County Air Pollution Control District (Southeast Desert), 2700 M. Street, Suite 302, Bakersfield, CA 93301-2370.

Lake County Air Quality Management District, 885 Lakeport Blvd., Lakeport, CA 95453-5405.

Lassen County Air Pollution Control District, 175 Russell Avenue, Susanville, CA 96130-4215.

Mariposa County Air Pollution Control District, P.O. Box 5, Mariposa, CA 95338.

Mendocino County Air Pollution Control District, 306 E. Gobbi Street, Ukiah, CA 95482-5511.

Modoc County Air Pollution Control District, 202 W. 4th Street, Alturas, CA 96101-3915.

Mojave Desert Air Quality Management District, 14306 Part Avenue, Victorville, CA 92392-2310.

Monterey Bay Unified Air Pollution Control District, 24580 Silver Cloud Ct., Monterey, CA 93940-6536.

North Coast Unified Air Pollution Control District, 2300 Myrtle Avenue, Eureka, CA 95501-3327.

Northern Sierra Air Quality Management District, 200 Litton Drive, P.O. Box 2509, Grass Valley, CA 95945-2509.

Northern Sonoma County Air Pollution Control District, 150 Matheson Street, Healdsburg, CA 95448-4908.

Placer County Air Pollution Control District, DeWitt Center, 11464 “B” Avenue, Auburn, CA 95603-2603.

Sacramento Metropolitan Air Quality Management District, 777 12th Street, Third Floor, Sacramento, CA 95814-1908.

San Diego County Air Pollution Control District, 9150 Chesapeake Drive, San Diego, CA 92123-1096.

San Joaquin Valley Unified Air Pollution Control District, 1999 Tuolumne Street, 1990 E. Gettysburg, Fresno, CA 93726.

San Luis Obispo County Air Pollution Control District, 3433 Roberto Court, San Luis Obispo, CA 93401-7126.

Santa Barbara County Air Pollution Control District, 26 Castilian Drive, B-23, Goleta, CA 93117-3027.

Shasta County Air Quality Management District, 1855 Placer Street, Suite 101, Redding, CA 96001-1759.

Siskiyou County Air Pollution Control District, 525 So. Foothill Drive, Yreka, CA 96097-3036.

South Coast Air Quality Management District, 21865 E. Copley Drive, Diamond Bar, CA 91765-4182.

Tehama County Air Pollution Control District, P.O. Box 38 (1750 Walnut Street), Red Bluff, CA 96080-0038.

Tuolumne County Air Pollution Control District, 2 South Green Street, Sonora, CA 95370-4618.

Ventura County Air Pollution Control District, 669 County Square Drive, Ventura, CA 93003-5417.

Yolo-Solano Air Quality Management District, 1947 Galileo Ct., Suite 103, Davis, CA 95616-4882.

Note: For tables listing the delegation status of agencies in Region IX, see paragraph (d) of this section.

* * * * *

(M) Hawaii:

Hawaii State Agency, Clean Air Branch, 919 Ala Moana Blvd., 3rd Floor, Post Office Box 3378, Honolulu, HI 96814.

Note: For tables listing the delegation status of agencies in Region IX, see paragraph (d) of this section.

* * * * *

(DD) Nevada:

Nevada State Agency, Air Pollution Control, Bureau of Air Quality/Division of Environmental Protection, 333 West Nye Lane, Carson City, NV 89710.

Clark County Department of Air Quality Management, 500 S. Grand Central Parkway, First floor, Las Vegas, NV 89155-1776.

Washoe County Air Pollution Control, Washoe County District Air Quality Management, P.O. Box 11130, 1001 E. Ninth Street, Reno, NV 89520.

Note: For tables listing the delegation status of agencies in Region IX, see paragraph (d) of this section.

* * * * *

(AAA) Territory of Guam: Guam Environmental Protection Agency, Post Office Box 2999, Agana, Guam 96910.

Note: For tables listing the delegation status of agencies in Region IX, see paragraph (d) of this section.

* * * * *

(DDD) American Samoa Environmental Protection Agency, Pago Pago, American Samoa 96799.

Note: For tables listing the delegation status of agencies in Region IX, see paragraph (d) of this section.

(EEE) Commonwealth of the Northern Mariana Islands, Division of Environmental Quality, P.O. Box 1304, Saipan, MP 96950.

Note: For tables listing the delegation status of agencies in Region IX, see paragraph (d) of this section.

* * * * *

(d) The following tables list the specific Part 60 standards that have been delegated unchanged to the air pollution control agencies in Region IX. The (X) symbol is used to indicate each standard that has been delegated. The following provisions of this subpart are not delegated: §§ 60.4(b), 60.8(b), 60.9, 60.11(b), 60.11(e), 60.13(a), 60.13(d)(2), 60.13(g), 60.13(i).

(1) Arizona. The following table identifies delegations as of June 15, 2001:

Delegation Status for New Source Performance Standards for Arizona
| Subpart | Air pollution control agency: Arizona DEQ | Air pollution control agency: Maricopa County | Air pollution control agency: Pima County | Air pollution control agency: Pinal County
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units | X | X | X | X
Dc | Small Industrial Steam Generating Units | X | X | X | X
E | Incinerators | X | X | X | X
Ea | Municipal Waste Combustors Constructed After December 20, 1989 and On or Before September 20, 1994 | X | X |  | X
Eb | Municipal Waste Combustors Constructed After September 20, 1994 | X |  |  |
Ec | Hospital/Medical/Infectious Waste Incinerators for Which Construction is Commenced After June 20, 1996 |  |  |  |
F | Portland Cement Plants | X | X | X | X
G | Nitric Acid Plants | X | X | X | X
H | Sulfuric Acid Plant | X | X | X | X
I | Hot Mix Asphalt Facilities | X | X | X | X
J | Petroleum Refineries | X | X | X | X
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X | X |  | X
O | Sewage Treatment Plants | X | X | X | X
P | Primary Copper Smelters | X | X | X | X
Q | Primary Zinc Smelters | X | X | X | X
R | Primary Lead Smelters | X | X | X | X
S | Primary Aluminum Reduction Plants | X | X | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation Plants | X | X | X | X
Z | Ferroalloy Production Facilities | X | X | X | X
AA | Steel Plants: Electric Arc Furnaces Constructed After October 21, 1974 and On or Before August 17, 1983 | X | X | X | X
AAa | Steel Plants: Electric Arc Furnaces and Argon-Oxygen Decarburization Vessels Constructed After August 7, 1983 | X | X | X | X
BB | Kraft pulp Mills | X | X | X | X
CC | Glass Manufacturing Plants | X | X | X | X
DD | Grain Elevators | X | X | X | X
EE | Surface Coating of Metal Furniture | X | X | X | X
FF | (Reserved) |  |  |  |
GG | Stationary Gas Turbines | X | X | X | X
HH | Lime Manufacturing Plants | X | X | X | X
KK | Lead-Acid Battery Manufacturing Plants | X | X | X | X
LL | Metallic Mineral Processing Plants | X | X | X | X
MM | Automobile and Light Duty Trucks Surface Coating Operations | X | X | X | X
NN | Phosphate Rock Plants | X | X | X | X
PP | Ammonium Sulfate Manufacture | X | X | X | X
QQ | Graphic Arts Industry: Publication Rotogravure Printing | X | X | X | X
RR | Pressure Sensitive Tape and Label Surface Coating Operations | X | X | X | X
SS | Industrial Surface Coating: Large Appliances | X | X | X | X
TT | Metal Coil Surface Coating | X | X | X | X
UU | Asphalt Processing and Asphalt Roofing Manufacture | X | X | X | X
VV | Equipment Leaks of VOC in the Synthetic Organic Chemicals Manufacturing Industry | X | X | X | X
WW | Beverage Can Surface Coating Industry | X | X | X | X
XX | Bulk Gasoline Terminals | X | X | X | X
AAA | New Residential Wool Heaters | X | X | X | X
BBB | Rubber Tire Manufacturing Industry | X | X | X | X
CCC | (Reserved) |  |  |  |
DDD | Volatile Organic Compounds (VOC) Emissions from the Polymer Manufacturing Industry | X | X | X | X
EEE | (Reserved) |  |  |  |
FFF | Flexible Vinyl and Urethane Coating and Printing | X | X | X | X
GGG | Equipment Leaks of VOC in Petroleum Refineries | X | X | X | X
HHH | Synthetic Fiber Production Facilities | X | X | X | X
III | Volatile Organic Compound (VOC) Emissions From the Synthetic Organic Chemical Manufacturing Industry (SOCMI) Air Oxidation Unit Processes | X | X | X | X
JJJ | Petroleum Dry Cleaners | X | X | X | X
KKK | Equipment Leaks of VOC From Onshore Natural Gas Processing Plants | X | X | X | X
LLL | Onshore Natural Gas Processing: SO2 Emissions | X | X |  | X
MMM | (Reserved) | X | X | X | X
NNN | Volatile Organic Compound (VOC) Emissions From Synthetic Organic Chemical Manufacturing Industry (SOCMI) Distillation Operations | X | X | X | X
OOO | Nonmetallic Mineral Processing Plants | X | X | X | X
PPP | Wool Fiberglass Insulation Manufacturing Plants | X | X | X | X
QQQ | VOC Emissions From Petroleum Refinery Wastewater Systems | X | X | X | X
RRR | Volatile Organic Compound Emissions from Synthetic Organic Chemical Manufacturing Industry (SOCMI) Reactor Processes |  |  |  |
SSS | Magnetic Tape Coating Facilities | X | X | X | X
TTT | Industrial Surface Coating: Surface Coating of Plastic Parts for Business Machines | X | X | X | X
UUU | Calciners and Dryers in Mineral Industries | X |  |  |
VVV | Polymeric Coating of Supporting Substrates Facilities | X | X | X | X
WWW | Municipal Solid Waste Landfills | X |  |  |

(2) California. The following tables identify delegations for each of the local air pollution control agencies of California.

(i) Delegations for Amador County Air Pollution Control District, Antelope Valley Air Pollution Control District, Bay Area Air Quality Management District, and Butte County Air Pollution Control District are shown in the following table:

Delegation Status for New Source Performance Standards for Amador County APCD, Antelope Valley APCD, Bay Area AQMD, and Butte County AQMD
| Subpart | Air pollution control agency: Amador County APCD | Air pollution control agency: Antelope Valley APCD | Air pollution control agency: Bay Area AQMD | Air pollution control agency: Butte County APCD
A | General Provisions |  |  | X |
D | Fossil-Fuel Fired Steam Generators Constructed After August 17, 1971 |  |  | X |
Da | Electric Utility Steam Generating Units Constructed After September 18, 1978 |  |  | X |
Db | Industrial-Commercial-Institutional Steam Generating Units |  |  | X |
Dc | Small Industrial Steam Generating Units |  |  | X |
E | Incinerators |  |  | X |
Ea | Municipal Waste Combustors Constructed After December 20, 1989 and On or Before September 20, 1994 |  |  | X |
Eb | Municipal Waste Combustors Constructed After September 20, 1994 |  |  |  |
Ec | Hospital/Medical/Infectious Waste Incinerators for Which Construction is Commenced After June 20, 1996 |  |  |  |
F | Portland Cement Plants |  |  | X |
G | Nitric Acid Plants |  |  | X |
H | Sulfuric Acid Plants |  |  | X |
I | Hot Mix Asphalt Facilities |  |  | X |
J | Petroleum Refineries |  |  | X |
K | Storage Vessels for Petroleum Liquids for Which Construction, Reconstruction, or Modification Commenced After June 11, 1973, and Prior to May 19, 1978 |  |  | X |
Ka | Storage Vessels for Petroleum Liquids for Which Construction, Reconstruction, or Modification Commenced After May 18, 1978, and Prior to July 23, 1984 |  |  | X |
Kb | Volatile Organic Liquid Storage Vessels (Including Petroleum Liquid Storage Vessels) for Which Construction, Reconstruction, or Modification Commenced After July 23, 1984 |  |  | X |
L | Secondary Lead Smelters |  |  | X |
M | Secondary Brass and Bronze Production Plants |  |  | X |
N | Primary Emissions from Basic Oxygen Process Furnaces for Which Construction is Commenced After June 11, 1973 |  |  | X |
Na | Secondary Emissions from Basic Oxygen Process Steelmaking Facilities for Which Construction is Commenced After January 20, 1983 |  |  | X |
O | Sewage Treatment Plants |  |  | X |
P | Primary Copper Smelters |  |  | X |
Q | Primary Zinc Smelters |  |  | X |
R | Primary Lead Smelters |  |  | X |
S | Primary Aluminum Reduction Plants |  |  | X |
T | Phosphate Fertilizer Industry: Wet Process Phosphoric Acid Plants
U | Phosphate Fertilizer Industry: Superphosphoric Acid Plants |  |  | X |
V | Phosphate Fertilizer Industry: Diammonium Phosphate Plants |  |  | X |
W | Phosphate Fertilizer Industry: Triple Superphosphate Plants |  |  | X |
X | Phosphate Fertilizer Industry: Granular Triple Superphosphate Storage Facilities |  |  | X |
Y | Coal Preparation Plants |  |  | X |
Z | Ferroalloy Production Facilities |  |  | X |
AA | Steel Plants: Electric Arc Furnaces Constructed After October 21, 1974 and On or Before August 17, 1983 |  |  | X |
AAa | Steel Plants: Electric Arc Furnaces and Argon-Oxygen Decarburization Vessels Constructed After August 7, 1983 |  |  | X |
BB | Kraft pulp Mills |  |  | X |
CC | Glass Manufacturing Plants |  |  | X |
DD | Grain Elevators |  |  | X |
EE | Surface Coating of Metal Furniture |  |  | X |
FF | (Reserved) |  |  |  |
GG | Stationary Gas Turbines |  |  | X |
HH | Lime Manufacturing Plants |  |  | X |
KK | Lead-Acid Battery Manufacturing Plants |  |  | X |
LL | Metallic Mineral Processing Plants |  |  | X |
MM | Automobile and Light Duty Trucks Surface Coating Operations |  |  | X |
NN | Phosphate Rock Plants |  |  | X |
PP | Ammonium Sulfate Manufacture |  |  | X |
QQ | Graphic Arts Industry: Publication Rotogravure Printing |  |  | X |
RR | Pressure Sensitive Tape and Label Surface Coating Operations |  |  | X |
SS | Industrial Surface Coating: Large Appliances |  |  | X |
TT | Metal Coil Surface Coating |  |  | X |
UU | Asphalt Processing and Asphalt Roofing Manufacture |  |  | X |
VV | Equipment Leaks of VOC in the Synthetic Organic Chemicals Manufacturing Industry |  |  | X |
WW | Beverage Can Surface Coating Industry |  |  | X |
XX | Bulk Gasoline Terminals |  |  |  |
AAA | New Residential Wool Heaters |  |  | X |
BBB | Rubber Tire Manufacturing Industry |  |  | X |
CCC | (Reserved) |  |  |  |
DDD | Volatile Organic Compounds (VOC) Emissions from the Polymer Manufacturing Industry |  |  | X |
EEE | (Reserved) |  |  |  |
FFF | Flexible Vinyl and Urethane Coating and Printing |  |  | X |
GGG | Equipment Leaks of VOC in Petroleum Refineries |  |  | X |
HHH | Synthetic Fiber Production Facilities |  |  | X |
III | Volatile Organic Compound (VOC) Emissions From the Synthetic Organic Chemical Manufacturing Industry (SOCMI) Air Oxidation Unit Processes
JJJ | Petroleum Dry Cleaners |  |  | X |
KKK | Equipment Leaks of VOC From Onshore Natural Gas Processing Plants |  |  | X |
LLL | Onshore Natural Gas Processing: SO2 Emissions |  |  |  |
MMM | (Reserved) |  |  |  |
NNN | Volatile Organic Compound (VOC) Emissions From Synthetic Organic Chemical Manufacturing Industry (SOCMI) Distillation Operations |  |  | X |
OOO | Nonmetallic Mineral Processing Plants |  |  | X |
PPP | Wool Fiberglass Insulation Manufacturing Plants |  |  | X |
QQQ | VOC Emissions From Petroleum Refinery Wastewater Systems |  |  | X |
RRR | Volatile Organic Compound Emissions from Synthetic Organic Chemical Manufacturing Industry (SOCMI) Reactor Processes |  |  |  |
SSS | Magnetic Tape Coating Facilities |  |  | X |
TTT | Industrial Surface Coating: Surface Coating of Plastic Parts for Business Machines |  |  | X |
UUU | Calciners and Dryers in Mineral Industries |  |  | X |
VVV | Polymeric Coating of Supporting Substrates Facilities |  |  | X |
WWW | Municipal Solid Waste Landfills |  |  |  |

(ii) [Reserved]

(iii) Delegations for Glenn County Air Pollution Control District, Great Basin Unified Air Pollution Control District, Imperial County Air Pollution Control District, and Kern County Air Pollution Control District are shown in the following table:

Delegation Status for New Source Performance Standards for Glenn County APCD, Great Basin Unified APCD, Imperial County APCD, and Kern County APCD
| Subpart | Air pollution control agency: Glenn County APCD | Air pollution control agency: Great Basin Unified APCD | Air pollution control agency: Imperial County APCD | Air pollution control agency: Kern County APCD
A | General Provisions |  | X |  | X
D | Fossil-Fuel Fired Steam Generators Constructed After August 17, 1971 |  | X |  | X
Da | Electric Utility Steam Generating Units Constructed After September 18, 1978 |  | X |  | X
Db | Industrial-Commercial-Institutional Steam Generating Units |  | X |  | X
Dc | Small Industrial Steam Generating Units |  | X |  | X
E | Incinerators |  | X |  | X
Ea | Municipal Waste Combustors Constructed After December 20, 1989 and On or Before September 20, 1994 |  | X |  |
Eb | Municipal Waste Combustors Constructed After September 20, 1994 |  |  |  |
Ec | Hospital/Medical/Infectious Waste Incinerators for Which Construction is Commenced After June 20, 1996 |  |  |  |
F | Portland Cement Plants |  | X |  | X
G | Nitric Acid Plants |  | X |  | X
H | Sulfuric Acid Plants |  | X |  |
I | Hot Mix Asphalt Facilities |  | X |  | X
J | Petroleum Refineries |  | X |  | X
K | Storage Vessels for Petroleum Liquids for Which Construction, Reconstruction, or Modification Commenced After June 11, 1973, and Prior to May 19, 1978 |  | X |  | X
Ka | Storage Vessels for Petroleum Liquids for Which Construction, Reconstruction, or Modification Commenced After May 18, 1978, and Prior to July 23, 1984 |  | X |  | X
Kb | Volatile Organic Liquid Storage Vessels (Including Petroleum Liquid Storage Vessels) for Which Construction, Reconstruction, or Modification Commenced After July 23, 1984 |  | X |  | X
L | Secondary Lead Smelters |  | X |  | X
M | Secondary Brass and Bronze Production Plants |  | X |  | X
N | Primary Emissions from Basic Oxygen Process Furnaces for Which Construction is Commenced After June 11, 1973 |  | X |  | X
Na | Secondary Emissions from Basic Oxygen Process Steelmaking Facilities for Which Construction is Commenced After January 20, 1983 |  | X |  | X
O | Sewage Treatment Plants |  | X |  | X
P | Primary Copper Smelters |  | X |  | X
Q | Primary Zinc Smelters |  | X |  | X
R | Primary Lead Smelters |  | X |  | X
S | Primary Aluminum Reduction Plants |  | X |  | X
T | Phosphate Fertilizer Industry: Wet Process Phosphoric Acid Plants |  | X |  | X
U | Phosphate Fertilizer Industry: Superphosphoric Acid Plants |  | X |  | X
V | Phosphate Fertilizer Industry: Diammonium Phosphate Plants |  | X |  | X
W | Phosphate Fertilizer Industry: Triple Superphosphate Plants |  | X |  | X
X | Phosphate Fertilizer Industry: Granular Triple Superphosphate Storage Facilities |  | X |  | X
Y | Coal Preparation Plants |  | X |  | X
Z | Ferroalloy Production Facilities |  | X |  | X
AA | Steel Plants: Electric Arc Furnaces Constructed After October 21, 1974 and On or Before August 17, 1983 |  | X |  | X
AAa | Steel Plants: Electric Arc Furnaces and Argon-Oxygen Decarburization Vessels Constructed After August 7, 1983 |  | X |  | X
BB | Kraft pulp Mills |  | X |  | X
CC | Glass Manufacturing Plants |  | X |  | X
DD | Grain Elevators |  | X |  | X
EE | Surface Coating of Metal Furniture |  | X |  | X
FF | (Reserved) |  |  |  |
GG | Stationary Gas Turbines |  | X |  | X
HH | Lime Manufacturing Plants |  | X |  | X
KK | Lead-Acid Battery Manufacturing Plants |  | X |  | X
LL | Metallic Mineral Processing Plants |  | X |  | X
MM | Automobile and Light Duty Trucks Surface Coating Operations |  | X |  | X
NN | Phosphate Rock Plants |  | X |  | X
PP | Ammonium Sulfate Manufacture |  | X |  | X
QQ | Graphic Arts Industry: Publication Rotogravure Printing |  | X |  | X
RR | Pressure Sensitive Tape and Label Surface Coating Operations |  | X |  | X
SS | Industrial Surface Coating: Large Appliances |  | X |  | X
TT | Metal Coil Surface Coating |  | X |  | X
UU | Asphalt Processing and Asphalt Roofing Manufacture |  | X |  | X
VV | Equipment Leaks of VOC in the Synthetic Organic Chemicals Manufacturing Industry |  | X |  | X
WW | Beverage Can Surface Coating Industry |  | X |  | X
XX | Bulk Gasoline Terminals |  |  |  |
AAA | New Residential Wool Heaters |  | X |  | X
BBB | Rubber Tire Manufacturing Industry |  | X |  | X
CCC | (Reserved) |  |  |  |
DDD | Volatile Organic Compounds (VOC) Emissions from the Polymer Manufacturing Industry |  | X |  | X
EEE | (Reserved) |  |  |  |
FFF | Flexible Vinyl and Urethane Coating and Printing |  | X |  | X
GGG | Equipment Leaks of VOC in Petroleum Refineries |  | X |  | X
HHH | Synthetic Fiber Production Facilities |  | X |  | X
III | Volatile Organic Compound (VOC) Emissions From the Synthetic Organic Chemical Manufacturing Industry (SOCMI) Air Oxidation Unit Processes |  | X |  | X
JJJ | Petroleum Dry Cleaners |  | X |  | X
KKK | Equipment Leaks of VOC From Onshore Natural Gas Processing Plants |  | X |  | X
LLL | Onshore Natural Gas Processing: SO2 Emissions |  |  |  | X
MMM | (Reserved) |  |  |  |
NNN | Volatile Organic Compound (VOC) Emissions From Synthetic Organic Chemical Manufacturing Industry (SOCMI) Distillation Operations |  | X |  | X
OOO | Nonmetallic Mineral Processing Plants |  | X |  | X
PPP | Wool Fiberglass Insulation Manufacturing Plants |  | X |  | X
QQQ | VOC Emissions From Petroleum Refinery Wastewater Systems |  | X |  | X
RRR | Volatile Organic Compound Emissions from Synthetic Organic Chemical Manufacturing Industry (SOCMI) Reactor Processes |  |  |  | X
SSS | Magnetic Tape Coating Facilities |  | X |  | X
TTT | Industrial Surface Coating: Surface Coating of Plastic Parts for Business Machines |  | X |  | X
UUU | Calciners and Dryers in Mineral Industries |  | X |  | X
VVV | Polymeric Coating of Supporting Substrates Facilities |  | X |  | X
WWW | Municipal Solid Waste Landfills |  |  |  | X

(iv) Delegations for Lake County Air Quality Management District, Lassen County Air Pollution Control District, Mariposa County Air Pollution Control District, and Mendocino County Air Pollution Control District are shown in the following table:

Delegation Status for New Source Performance Standards for Lake County Air Quality Management District, Lassen County Air Pollution Control District, Mariposa County Air Pollution Control District, and Mendocino County Air Pollution Control District
| Subpart | Air pollution control agency: Lake County AQMD | Air pollution control agency: Lassen County APCD | Air pollution control agency: Mariposa County AQMD | Air pollution control agency: Mendocino County AQMD
A | General Provisions | X |  |  | X
D | Fossil-Fuel Fired Steam Generators Constructed After August 17, 1971 | X |  |  | X
Da | Electric Utility Steam Generating Units Constructed After September 18, 1978 | X |  |  | X
Db | Industrial-Commercial-Institutional Steam Generating Units | X |  |  |
Dc | Small Industrial Steam Generating Units | X |  |  | X
E | Incinerators | X |  |  | X
Ea | Municipal Waste Combustors Constructed After December 20, 1989 and On or Before September 20, 1994 | X |  |  | X
Eb | Municipal Waste Combustors Constructed After September 20, 1994 |  |  |  |
Ec | Hospital/Medical/Infectious Waste Incinerators for Which Construction is Commenced After June 20, 1996 |  |  |  |
F | Portland Cement Plants | X |  |  | X
G | Nitric Acid Plants | X |  |  | X
H | Sulfuric Acid Plants | X |  |  | X
I | Hot Mix Asphalt Facilities | X |  |  | X
J | Petroleum Refineries | X |  |  | X
K | Storage Vessels for Petroleum Liquids for Which Construction, Reconstruction, or Modification Commenced After June 11, 1973, and Prior to May 19, 1978 | X |  |  | X
Ka | Storage Vessels for Petroleum Liquids for Which Construction, Reconstruction, or Modification Commenced After May 18, 1978, and Prior to July 23, 1984 | X |  |  | X
Kb | Volatile Organic Liquid Storage Vessels (Including Petroleum Liquid Storage Vessels) for Which Construction, Reconstruction, or Modification Commenced After July 23, 1984 | X |  |  | X
L | Secondary Lead Smelters | X |  |  | X
M | Secondary Brass and Bronze Production Plants | X |  |  | X
N | Primary Emissions from Basic Oxygen Process Furnaces for Which Construction is Commenced After June 11, 1973 | X |  |  | X
Na | Secondary Emissions from Basic Oxygen Process Steelmaking Facilities for Which Construction is Commenced After January 20, 1983 | X |  |  | X
O | Sewage Treatment Plants | X |  |  | X
P | Primary Copper Smelters | X |  |  | X
Q | Primary Zinc Smelters | X |  |  | X
R | Primary Lead Smelters | X |  |  | X
S | Primary Aluminum Reduction Plants | X |  |  | X
T | Phosphate Fertilizer Industry: Wet Process Phosphoric Acid Plants | X |  |  | X
U | Phosphate Fertilizer Industry: Superphosphoric Acid Plants | X |  |  | X
V | Phosphate Fertilizer Industry: Diammonium Phosphate Plants | X |  |  | X
W | Phosphate Fertilizer Industry: Triple Superphosphate Plants | X |  |  | X
X | Phosphate Fertilizer Industry: Granular Triple Superphosphate Storage Facilities | X |  |  | X
Y | Coal Preparation Plants | X |  |  | X
Z | Ferroalloy Production Facilities | X |  |  | X
AA | Steel Plants: Electric Arc Furnaces Constructed After October 21, 1974 and On or Before August 17, 1983 | X |  |  | X
AAa | Steel Plants: Electric Arc Furnaces and Argon-Oxygen Decarburization Vessels Constructed After August 7, 1983 | X |  |  | X
BB | Kraft Pulp Mills | X |  |  | X
CC | Glass Manufacturing Plants | X |  |  | X
DD | Grain Elevators | X |  |  | X
EE | Surface Coating of Metal Furniture | X |  |  | X
FF | (Reserved) |  |  |  |
GG | Stationary Gas Turbines | X |  |  | X
HH | Lime Manufacturing Plants | X |  |  | X
KK | Lead-Acid Battery Manufacturing Plants | X |  |  | X
LL | Metallic Mineral Processing Plants | X |  |  | X
MM | Automobile and Light Duty Trucks Surface Coating Operations | X |  |  | X
NN | Phosphate Rock Plants | X |  |  | X
PP | Ammonium Sulfate Manufacture | X |  |  | X
QQ | Graphic Arts Industry: Publication Rotogravure Printing | X |  |  | X
RR | Pressure Sensitive Tape and Label Surface Coating Operations | X |  |  | X
SS | Industrial Surface Coating: Large Appliances | X |  |  | X
TT | Metal Coil Surface Coating | X |  |  | X
UU | Asphalt Processing and Asphalt Roofing Manufacture | X |  |  | X
VV | Equipment Leaks of VOC in the Synthetic Organic Chemicals Manufacturing Industry | X |  |  | X
WW | Beverage Can Surface Coating Industry | X |  |  | X
XX | Bulk Gasoline Terminals |  |  |  |
AAA | New Residential Wool Heaters | X |  |  | X
BBB | Rubber Tire Manufacturing Industry | X |  |  | X
CCC | (Reserved) |  |  |  |
DDD | Volatile Organic Compounds (VOC) Emissions from the Polymer Manufacturing Industry | X |  |  | X
EEE | (Reserved) |  |  |  |
FFF | Flexible Vinyl and Urethane Coating and Printing | X |  |  | X
GGG | Equipment Leaks of VOC in Petroleum Refineries | X |  |  | X
HHH | Synthetic Fiber Production Facilities | X |  |  | X
III | Volatile Organic Compound (VOC) Emissions From the Synthetic Organic Chemical Manufacturing Industry (SOCMI) Air Oxidation Unit Processes | X |  |  | X
JJJ | Petroleum Dry Cleaners | X |  |  | X
KKK | Equipment Leaks of VOC From Onshore Natural Gas Processing Plants | X |  |  | X
LLL | Onshore Natural Gas Processing: SO2 Emissions | X |  |  | X
MMM | (Reserve) |  |  |  |
NNN | Volatile Organic Compound (VOC) Emissions From Synthetic Organic Chemical Manufacturing Industry (SOCMI)Distillation Operations | X |  |  | X
OOO | Nonmetallic Mineral Processing Plants | X |  |  | X
PPP | Wool Fiberglass Insulation Manufacturing Plants | X |  |  | X
QQQ | VOC Emissions From Petroleum Refinery Wastewater Systems | X |  |  | X
RRR | Volatile Organic Compound Emissions from Synthetic Organic Chemical Manufacturing Industry (SOCMI) Reactor Processes | X |  |  |
SSS | Magnetic Tape Coating Facilities | X |  |  | X
TTT | Industrial Surface Coating: Surface Coating of Plastic Parts for Business Machines
UUU | Calciners and Dryers in Mineral Industries | X |  |  | X
VVV | Polymeric Coating of Supporting Substrates Facilities | X |  |  | X
WWW | Municipal Solid Waste Landfills | X |  |  |

(v) Delegations for Modoc County Air Pollution Control District, Mojave Desert Air Quality Management District, Monterey Bay Unified Air Pollution Control District, and North Coast Unified Air Pollution Control District are shown in the following table:

Delegation Status for New Source Performance Standards for Modoc County Air Pollution Control District, Mojave Desert Air Quality Management District, Monterey Bay Unified Air Pollution Control District, and North Coast Unified Air Pollution Control District
| Subpart | Air pollution control agency: Modoc County APCD | Air pollution control agency: Mojave Desert AQMD | Air pollution control agency: Monterey Bay Unified APCD | Air pollution control agency: North Coast Unified AQMD
A | General Provisions | X |  | X | X
D | Fossil-Fuel Fired Steam Generators Constructed After August 17, 1971 | X | X | X | X
Da | Electric Utility Steam Generating Units Constructed After September 18, 1978 | X |  | X | X
Db | Industrial-Commercial-Institutional Steam Generating Units | X |  | X | X
Dc | Small Industrial Steam Generating Units |  |  | X |
E | Incinerators | X | X | X | X
Ea | Municipal Waste Combustors Constructed After December 20, 1989 and On or Before September 20, 1994 |  |  |  |
Eb | Municipal Waste Combustors Constructed After September 20, 1994 |  |  |  |
Ec | Hospital/Medical/Infectious Waste Incinerators for Which Construction is Commenced After June 20, 1996 |  |  |  |
F | Portland Cement Plants | X | X | X | X
G | Nitric Acid Plants | X | X | X | X
H | Sulfuric Acid Plants | X | X | X | X
I | Hot Mix Asphalt Facilities | X | X | X | X
J | Petroleum Refineries | X | X | X | X
K | Storage Vessels for Petroleum Liquids for Which Construction, Reconstruction, or Modification Commenced After June 11, 1973, and Prior to May 19, 1978 | X | X | X | X
Ka | Storage Vessels for Petroleum Liquids for Which Construction, Reconstruction, or Modification Commenced After May 18, 1978, and Prior to July 23, 1984 | X |  | X | X
Kb | Volatile Organic Liquid Storage Vessels (Including Petroleum Liquid Storage Vessels) for Which Construction, Reconstruction, or Modification Commenced After July 23, 1984 | X |  | X | X
L | Secondary Lead Smelters | X | X | X | X
M | Secondary Brass and Bronze Production Plants | X | X | X | X
N | Primary Emissions from Basic Oxygen Process Furnaces for Which Construction is Commenced After June 11, 1973 | X | X | X | X
Na | Secondary Emissions from Basic Oxygen Process Steelmaking Facilities for Which Construction is Commenced After January 20, 1983 | X |  | X | X
O | Sewage Treatment Plants | X | X | X | X
P | Primary Copper Smelters | X |  | X | X
Q | Primary Zinc Smelters | X |  | X | X
R | Primary Lead Smelters | X |  | X | X
S | Primary Aluminum Reduction Plants | X |  | X | X
T | Phosphate Fertilizer Industry: Wet Process Phosphoric Acid Plants | X | X | X | X
U | Phosphate Fertilizer Industry: Superphosphoric Acid Plants | X | X | X | X
V | Phosphate Fertilizer Industry: Diammonium Phosphate Plants | X | X | X | X
W | Phosphate Fertilizer Industry: Triple Superphosphate Plants | X | X | X | X
X | Phosphate Fertilizer Industry: Granular Triple Superphosphate Storage Facilities | X | X | X | X
Y | Coal Preparation Plants | X | X | X | X
Z | Ferroalloy Production Facilities | X |  | X | X
AA | Steel Plants: Electric Arc Furnaces Constructed After October 21, 1974 and On or Before August 17, 1983 | X | X | X | X
AAa | Steel Plants: Electric Arc Furnaces and Argon-Oxygen Decarburization Vessels Constructed After August 7, 1983 | X |  | X | X
BB | Kraft pulp Mills | X |  | X | X
CC | Glass Manufacturing Plants | X |  | X | X
DD | Grain Elevators | X |  | X | X
EE | Surface Coating of Metal Furniture | X |  | X | X
FF | (Reserved) |  |  |  |
GG | Stationary Gas Turbines | X |  | X | X
HH | Lime Manufacturing Plants | X |  | X | X
KK | Lead-Acid Battery Manufacturing Plants | X |  | X | X
LL | Metallic Mineral Processing Plants | X |  | X | X
MM | Automobile and Light Duty Trucks Surface Coating Operations | X |  | X | X
NN | Phosphate Rock Plants | X |  | X | X
PP | Ammonium Sulfate Manufacture | X |  | X | X
QQ | Graphic Arts Industry: Publication Rotogravure Printing | X |  | X | X
RR | Pressure Sensitive Tape and Label Surface Coating Operations | X |  | X | X
SS | Industrial Surface Coating: Large Appliances | X |  | X | X
TT | Metal Coil Surface Coating | X |  | X | X
UU | Asphalt Processing and Asphalt Roofing Manufacture | X |  | X | X
VV | Equipment Leaks of VOC in the Synthetic Organic Chemicals Manufacturing Industry | X |  | X | X
WW | Beverage Can Surface Coating Industry | X |  | X | X
XX | Bulk Gasoline Terminals |  |  |  |
AAA | New Residential Wool Heaters | X |  | X | X
BBB | Rubber Tire Manufacturing Industry | X |  | X | X
CCC | (Reserved) |  |  |  |
DDD | Volatile Organic Compounds (VOC) Emissions from the Polymer manufacturing Industry | X |  | X |
EEE | (Reserved) |  |  |  |
FFF | Flexible Vinyl and Urethane Coating and Printing | X |  | X | X
GGG | Equipment Leaks of VOC in Petroleum Refineries | X |  | X | X
HHH | Synthetic Fiber Production Facilities | X |  | X | X
III | Volatile Organic Compound (VOC) Emissions From the Synthetic Organic Chemical Manufacturing Industry (SOCMI) Air Oxidation Unit Processes |  |  |  |
JJJ | Petroleum Dry Cleaners | X |  | X | X
KKK | Equipment Leaks of VOC From Onshore Natural Gas Processing Plants | X |  | X | X
LLL | Onshore Natural Gas Processing: SO2 Emissions | X |  | X | X
MMM | (Reserved) |  |  |  |
NNN | Volatile Organic Compound (VOC) Emissions From Synthetic Organic Chemical Manufacturing Industry (SOCMI) Distillation Operations | X |  | X |
OOO | Nonmetallic Mineral Processing Plants | X |  | X | X
PPP | Wool Fiberglass Insulation Manufacturing Plants | X |  | X | X
QQQ | VOC Emissions From Petroleum Refinery Wastewater Systems | X |  | X | X
RRR | Volatile Organic Compound Emissions from Synthetic Organic Chemical Manufacturing Industry (SOCMI) Reactor Processes |  |  |  |
SSS | Magnetic Tape Coating Facilities | X |  | X | X
TTT | Industrial Surface Coating: Surface Coating of Plastic Parts for Business Machines | X |  | X | X
UUU | Calciners and Dryers in Mineral Industries |  |  | X |
VVV | Polymeric Coating of Supporting Substrates Facilities |  |  | X | X
WWW | Municipal Solid Waste Landfills |  |  |  |

(vi) Delegations for Northern Sierra Air Quality Management District, Northern Sonoma County Air Pollution Control District, Placer County Air Pollution Control District, and Sacramento Metropolitan Air Quality Management District are shown in the following table:

Delegation Status for New Source Performance Standards for Northern Sierra Air Quality Management District, Northern Sonoma County Air Pollution Control District, Placer County Air Pollution Control District, and Sacramento Metropolitan Air Quality Management District
| Subpart | Air pollution control agency: Northern Sierra AQMD | Air pollution control agency: Northern Sonoma County APCD | Air pollution control agency: Placer County APCD | Air pollution control agency: Sacramento Metropolitan AQMD
A | General Provisions |  | X |  | X
D | Fossil-Fuel Fired Steam Generators Constructed After August 17, 1971 |  | X |  | X
Da | Electric Utility Steam Generating Units Constructed After September 18, 1978 |  | X |  | X
Db | Industrial-Commercial-Institutional Steam Generating Units |  |  |  | X
Dc | Small Industrial Steam Generating Units |  |  |  | X
E | Incinerators |  | X |  | X
Ea | Municipal Waste Combustors Constructed After December 20, 1989 and On or Before September 20, 1994 |  |  |  | X
Eb | Municipal Waste Combustors Constructed After September 20, 1994 |  |  |  | X
Ec | Hospital/Medical/Infectious Waste Incinerators for Which Construction is Commenced After June 20, 1996 |  |  |  | X
F | Portland Cement Plants |  | X |  | X
G | Nitric Acid Plants |  | X |  | X
H | Sulfuric Acid Plants |  | X |  | X
I | Hot Mix Asphalt Facilities |  | X |  | X
J | Petroleum Refineries |  | X |  | X
K | Storage Vessels for Petroleum Liquids for Which Construction, Reconstruction, or Modification Commenced After June 11, 1973, and Prior to May 19, 1978 |  | X |  | X
Ka | Storage Vessels for Petroleum Liquids for Which Construction, Reconstruction, or Modification Commenced After May 18, 1978, and Prior to July 23, 1984 |  | X |  | X
Kb | Volatile Organic Liquid Storage Vessels (Including Petroleum Liquid Storage Vessels) for Which Construction, Reconstruction, or Modification Commenced After July 23, 1984 |  |  |  | X
L | Secondary Lead Smelters |  | X |  | X
M | Secondary Brass and Bronze Production Plants |  | X |  | X
N | Primary Emissions from Basic Oxygen Process Furnaces for Which Construction is Commenced After June 11, 1973 |  | X |  | X
Na | Secondary Emissions from Basic Oxygen Process Steelmaking Facilities for Which Construction is Commenced After January 20, 1983 |  |  |  | X
O | Sewage Treatment Plants |  | X |  | X
P | Primary Copper Smelters |  | X |  | X
Q | Primary Zinc Smelters |  | X |  | X
R | Primary Lead Smelters |  | X |  | X
S | Primary Aluminum Reduction Plants |  | X |  | X
T | Phosphate Fertilizer Industry: Wet Process Phosphoric Acid Plants |  | X |  | X
U | Phosphate Fertilizer Industry: Superphosphoric Acid Plants |  | X |  | X
V | Phosphate Fertilizer Industry: Diammonium Phosphate Plants |  | X |  | X
W | Phosphate Fertilizer Industry: Triple Superphosphate Plants |  | X |  | X
X | Phosphate Fertilizer Industry: Granular Triple Superphosphate Storage Facilities |  | X |  | X
Y | Coal Preparation Plants |  | X |  | X
Z | Ferroalloy Production Facilities |  | X |  | X
AA | Steel Plants: Electric Arc Furnaces Constructed After October 21, 1974 and On or Before August 17, 1983 |  | X |  | X
AAa | Steel Plants: Electric Arc Furnaces and Argon-Oxygen Decarburization Vessels Constructed After August 7, 1983 |  |  |  | X
BB | Kraft pulp Mills |  | X |  | X
CC | Glass Manufacturing Plants |  | X |  | X
DD | Grain Elevators |  | X |  | X
EE | Surface Coating of Metal Furniture |  |  |  | X
FF | (Reserved) |  |  |  |
GG | Stationary Gas Turbines |  | X |  | X
HH | Lime Manufacturing Plants |  | X |  | X
KK | Lead-Acid Battery Manufacturing Plants |  |  |  | X
LL | Metallic Mineral Processing Plants |  |  |  | X
MM | Automobile and Light Duty Trucks Surface Coating Operations |  | X |  | X
NN | Phosphate Rock Plants |  |  |  | X
PP | Ammonium Sulfate Manufacture |  | X |  | X
QQ | Graphic Arts Industry: Publication Rotogravure Printing |  |  |  | X
RR | Pressure Sensitive Tape and Label Surface Coating Operations |  |  |  | X
SS | Industrial Surface Coating: Large Appliances |  |  |  | X
TT | Metal Coil Surface Coating |  |  |  | X
UU | Asphalt Processing and Asphalt Roofing Manufacture |  |  |  | X
VV | Equipment Leaks of VOC in the Synthetic Organic Chemicals Manufacturing Industry |  |  |  | X
WW | Beverage Can Surface Coating Industry |  |  |  | X
XX | Bulk Gasoline Terminals | .... |  |  |
AAA | New Residential Wool Heaters |  |  |  | X
BBB | Rubber Tire Manufacturing Industry |  |  |  | X
CCC | (Reserved) |  |  |  |
DDD | Volatile Organic Compounds (VOC) Emissions from the Polymer Manufacturing Industry |  |  |  | X
EEE | (Reserved) |  |  |  |
FFF | Flexible Vinyl and Urethane Coating and Printing |  |  |  | X
GGG | Equipment Leaks of VOC in Petroleum Refineries |  |  |  | X
HHH | Synthetic Fiber Production Facilities |  |  |  | X
III | Volatile Organic Compound (VOC) Emissions From the Synthetic Organic Chemical Manufacturing Industry (SOCMI) Air Oxidation Unit Processes |  |  |  | X
JJJ | Petroleum Dry Cleaners |  |  |  | X
KKK | Equipment Leaks of VOC From Onshore Natural Gas Processing Plants |  |  |  | X
LLL | Onshore Natural Gas Processing: SO2 Emissions |  |  |  | X
MMM | (Reserved) |  |  |  |
NNN | Volatile Organic Compound (VOC) Emissions From Synthetic Organic Chemical Manufacturing Industry (SOCMI) Distillation Operations |  |  |  | X
OOO | Nonmetallic Mineral Processing Plants |  |  |  | X
PPP | Wool Fiberglass Insulation Manufacturing Plants |  |  |  | X
QQQ | VOC Emissions From Petroleum Refinery Wastewater Systems |  |  |  | X
RRR | Volatile Organic Compound Emissions from Synthetic Organic Chemical Manufacturing Industry (SOCMI) Reactor Processes |  |  |  | X
SSS | Magnetic Tape Coating Facilities |  |  |  | X
TTT | Industrial Surface Coating: Surface Coating of Plastic Parts for Business Machines |  |  |  | X
UUU | Calciners and Dryers in Mineral Industries |  |  |  | X
VVV | Polymeric Coating of Supporting Substrates Facilities |  |  |  | X
WWW | Municipal Solid Waste Landfills |  |  |  | X

(vii) Delegations for San Diego County Air Pollution Control District, San Joaquin Valley Unified Air Pollution Control District, San Luis Obispo County Air Pollution Control District, and Santa Barbara County Air Pollution Control District are shown in the following table:

Delegation Status for New Source Performance Standards for San Diego County Air Pollution Control District, San Joaquin Valley Unified Air Pollution Control District, San Luis Obispo County Air Pollution Control District, and Santa Barbara County Air Pollution Control District
| Subpart | Air pollution control agency: San Diego County APCD | Air pollution control agency: San Joaquin Valley United APCD | Air pollution control agency: San Luis Obispo County APCD | Air pollution control agency: Santa Barbara County APCD
A | General Provisions | X | X | X | X
D | Fossil-Fuel Fired Steam Generators Constructed After August 17, 1971 | X | X | X | X
Da | Electric Utility Steam Generating Units Constructed After September 18, 1978 | X | X | X | X
Db | Industrial-Commercial-Institutional Steam Generating Units |  | X | X | X
Dc | Small Industrial Steam Generating Units | X | X |  | X
E | Incinerators | X | X | X | X
Ea | Municipal Waste Combustors Constructed After December 20, 1989 and On or Before September 20, 1994 |  | X | X | X
Eb | Municipal Waste Combustors Constructed After September 20, 1994 |  |  | X |
Ec | Hospital/Medical/Infectious Waste Incinerators for Which Construction is Commenced After June 20, 1996 |  |  |  |
F | Portland Cement Plants |  | X | X | X
G | Nitric Acid Plants |  | X | X | X
H | Sulfuric Acid Plants |  | X | X | X
I | Hot Mix Asphalt Facilities | X | X | X | X
J | Petroleum Refineries | X | X | X | X
K | Storage Vessels for Petroleum Liquids for Which Construction, Reconstruction, or Modification Commenced Ater June 11, 1973, and Prior to May 19, 1978 | X | X | X | X
Ka | Storage Vessels for Petroleum Liquids for Which Construction, Reconstruction, or Modification Commenced After May 18, 1978, and Prior to July 23, 1984 | X | X | X | X
Kb | Volatile Organic Liquid Storage Vessels (Including Petroleum Liquid Storage Vessels) for Which Construction, Reconstruction, or Modification Commenced After July 23, 1984 | X | X | X | X
L | Secondary Lead Smelters | X | X | X | X
M | Secondary Brass and Bronze Production Plants | X | X | X | X
N | Primary Emissions from Basic Oxygen Process Furnaces for Which Construction is Commenced After June 11, 1973 |  | X | X | X
Na | Secondary Emissions from Basic Oxygen Process Steelmaking Facilities for Which Construction is Commenced After January 20, 1983 |  | X | X | X
O | Sewage Treatment Plants | X | X | X | X
P | Primary Copper Smelters |  | X | X | X
Q | Primary Zinc Smelters |  | X | X | X
R | Primary Lead Smelters |  | X | X | X
S | Primary Aluminum Reduction Plants |  | X | X | X
T | Phosphate Fertilizer Industry: Wet Process Phosphoric Acid Plants |  | X | X | X
U | Phosphate Fertilizer Industry: Superphosphoric Acid Plants |  | X | X | X
V | Phosphate Fertilizer Industry: Diammonium Phosphate Plants |  | X | X | X
W | Phosphate Fertilizer Industry: Triple Superphosphate Plants |  | X | X | X
X | Phosphate Fertilizer Industry: Granular Triple Superphosphate Storage Facilities |  | X | X | X
Y | Coal Preparation Plants |  | X | X | X
Z | Ferroalloy Production Facilities |  | X | X | X
AA | Steel Plants: Electric Arc Furnaces Constructed After October 21, 1974 and On or Before August 17, 1983 |  | X | X | X
AAa | Steel Plants: Electric Arc Furnaces and Argon-Oxygen Decarburization Vessels Constructed After August 7, 1983 |  | X | X | X
BB | Kraft pulp Mills |  | X | X | X
CC | Glass Manufacturing Plants | X | X | X | X
DD | Grain Elevators | X | X | X | X
EE | Surface Coating of Metal Furniture |  | X | X | X
FF | (Reserved) |  |  |  |
GG | Stationary Gas Turbines | X | X | X | X
HH | Lime Manufacturing Plants |  | X | X | X
KK | Lead-Acid Battery Manufacturing Plants |  | X | X | X
LL | Metallic Mineral Processing Plants |  | X | X | X
MM | Automobile and Light Duty Trucks Surface Coating Operations |  | X | X | X
NN | Phosphate Rock Plants |  | X | X | X
PP | Ammonium Sulfate Manufacture |  | X | X | X
QQ | Graphic Arts Industry: Publication Rotogravure Printing |  | X | X | X
RR | Pressure Sensitive Tape and Label Surface Coating Operations |  | X | X | X
SS | Industrial Surface Coating: Large Appliances |  | X | X | X
TT | Metal Coil Surface Coating |  | X | X | X
UU | Asphalt Processing and Asphalt Roofing Manufacture |  | X | X | X
VV | Equipment Leaks of VOC in the Synthetic Organic Chemicals Manufacturing Industry |  | X | X | X
WW | Beverage Can Surface Coating Industry |  | X | X | X
XX | Bulk Gasoline Terminals |  |  |  |
AAA | New Residential Wool Heaters |  | X | X | X
BBB | Rubber Tire Manufacturing Industry |  | X | X | X
CCC | (Reserved) |  |  |  |
DDD | Volatile Organic Compounds (VOC) Emissions from the Polymer Manufacturing Industry |  | X |  | X
EEE | (Reserved) |  |  |  |
FFF | Flexible Vinyl and Urethane Coating and Printing |  | X | X | X
GGG | Equipment Leaks of VOC in Petroleum Refineries |  | X | X | X
HHH | Synthetic Fiber Production Facilities |  | X | X | X
III | Volatile Organic Compound (VOC) Emissions From the Synthetic Organic Chemical Manufacturing Industry (SOCMI) Air Oxidation Unit Processes |  | X |  | X
JJJ | Petroleum Dry Cleaners |  | X | X | X
KKK | Equipment Leaks of VOC From Onshore Natural Gas Processing Plants |  | X | X | X
LLL | Onshore Natural Gas Processing: SO2 Emissions |  | X | X | X
MMM | (Reserved) |  |  |  |
NNN | Volatile Organic Compound (VOC) Emissions From Synthetic Organic Chemical Manufacturing Industry (SOCMI) Distillation Operations |  | X |  | X
OOO | Nonmetallic Mineral Processing Plants | X | X | X | X
PPP | Wool Fiberglass Insulation Manufacturing Plants |  | X | X | X
QQQ | VOC Emissions From Petroleum Refinery Wastewater Systems |  | X | X | X
RRR | Volatile Organic Compound Emissions from Synthetic Organic Chemical Manufacturing Industry (SOCMI) Reactor Processes |  | X | X | X
SSS | Magnetic Tape Coating Facilities |  | X | X | X
TTT | Industrial Surface Coating: Surface Coating of Plastic Parts for Business Machines |  | X | X | X
UUU | Calciners and Dryers in Mineral Industries | X | X | X | X
VVV | Polymeric Coating of Supporting Substrates Facilities |  | X | X | X
WWW | Municipal Solid Waste Landfills | X | X | X | X

(viii) Delegations for Shasta County Air Quality Management District, Siskiyou County Air Pollution Control District, South Coast Air Quality Management District, and Tehama County Air Pollution Control District are shown in the following table:

Delegation Status for New Source Performance Standards for Shasta County Air Quality Management District, Siskiyou County Air Pollution Control District, South Coast Air Quality Management District, and Tehama County Air Pollution Control District
| Subpart | Air pollution control agency: Shasta County AQMD | Air pollution control agency: Siskiyou County APCD | Air pollution control agency: South Coast AQMD | Air pollution control agency: Tehama County APCD
A | General Provisions | X | X | X |
D | Fossil-Fuel Fired Steam Generators Constructed After August 17, 1971 | X |  | X |
Da | Electric Utility Steam Generating Units Constructed After September 18, 1978 |  |  | X |
Db | Industrial-Commercial-Institutional Steam Generating Units |  |  | X |
Dc | Small Industrial Steam Generating Units |  |  | X |
E | Incinerators | X |  | X |
Ea | Municipal Waste Combustors Constructed After December 20, 1989 and On or Before September 20, 1994 |  |  | X |
Eb | Municipal Waste Combustors Constructed After September 20, 1994 |  |  | X |
Ec | Hospital/Medical/Infectious Waste Incinerators for Which Construction is Commenced After June 20, 1996 |  |  | X |
F | Portland Cement Plants | X |  | X |
G | Nitric Acid Plants | X |  | X |
H | Sulfuric Acid Plants | X |  | X |
I | Hot Mix Asphalt Facilities | X |  | X |
J | Petroleum Refineries | X |  | X |
K | Storage Vessels for Petroleum Liquids for Which Construction, Reconstruction, or Modification Commenced After June 11, 1973, and Prior to May 19, 1978 | X |  | X |
Ka | Storage Vessels for Petroleum Liquids for Which Construction, Reconstruction, or Modification Commenced After May 18, 1978, and Prior to July 23, 1984 |  |  | X |
Kb | Volatile Organic Liquid Storage Vessels (Including Petroleum Liquid Storage Vessels) for Which Construction, Reconstruction, or Modification Commenced After July 23, 1984 |  |  | X |
L | Secondary Lead Smelters | X |  | X |
M | Secondary Brass and Bronze Production Plants | X |  | X |
N | Primary Emissions from Basic Oxygen Process Furnaces for Which Construction is Commenced After June 11, 1973 | X |  | X |
Na | Secondary Emissions from Basic Oxygen Process Steelmaking Facilities for Which Construction is Commenced After January 20, 1983 |  |  | X |
O | Sewage Treatment Plants | X |  | X |
P | Primary Copper Smelters | X |  | X |
Q | Primary Zinc Smelters | X |  | X |
R | Primary Lead Smelters | X |  | X |
S | Primary Aluminum Reduction Plants | X |  | X |
T | Phosphate Fertilizer Industry: Wet Process Phosphoric Acid Plants | X |  | X |
U | Phosphate Fertilizer Industry: Superphosphoric Acid Plants | X |  | X |
V | Phosphate Fertilizer Industry: Diammonium Phosphate Plants | X |  | X |
W | Phosphate Fertilizer Industry: Triple Superphosphate Plants | X |  | X |
X | Phosphate Fertilizer Industry: Granular Triple Superphosphate Storage Facilities | X |  | X |
Y | Coal Preparation Plants | X |  | X |
Z | Ferroalloy Production Facilities | X |  | X |
AA | Steel Plants: Electric Arc Furnaces Constructed After October 21, 1974 and On or Before August 17, 1983 | X |  | X |
AAa | Steel Plants: Electric Arc Furnaces and Argon-Oxygen Decarburization Vessels Constructed After August 7, 1983 |  |  | X |
BB | Kraft pulp Mills | X |  | X |
CC | Glass Manufacturing Plants |  |  | X |
DD | Grain Elevators | X |  | X |
EE | Surface Coating of Metal Furniture |  |  | X |
FF | (Reserved) |  |  |  |
GG | Stationary Gas Turbines |  |  | X |
HH | Lime Manufacturing Plants | X |  | X |
KK | Lead-Acid Battery Manufacturing Plants |  |  | X |
LL | Metallic Mineral Processing Plants |  |  | X |
MM | Automobile and Light Duty Trucks Surface Coating Operations |  |  | X |
NN | Phosphate Rock Plants |  |  | X |
PP | Ammonium Sulfate Manufacture |  |  | X |
QQ | Graphic Arts Industry: Publication Rotogravure Printing |  |  | X |
RR | Pressure Sensitive Tape and Label Surface Coating Operations |  |  | X |
SS | Industrial Surface Coating: Large Appliances |  |  | X |
TT | Metal Coil Surface Coating |  |  | X |
UU | Asphalt Processing and Asphalt Roofing Manufacture |  |  | X |
VV | Equipment Leaks of VOC in the Synthetic Organic Chemicals Manufacturing Industry |  |  | X |
WW | Beverage Can Surface Coating Industry |  |  | X |
XX | Bulk Gasoline Terminals |  |  |  |
AAA | New Residential Wool Heaters |  | X | X |
BBB | Rubber Tire Manufacturing Industry |  | X | X |
CCC | (Reserved)
DDD | Volatile Organic Compounds (VOC) Emissions from the Polymer Manufacturing Industry |  |  | X |
EEE | (Reserved) |  |  |  |
FFF | Flexible Vinyl and Urethane Coating and Printing |  |  | X |
GGG | Equipment Leaks of VOC in Petroleum Refineries |  |  | X |
HHH | Synthetic Fiber Production Facilities |  |  | X |
III | Volatile Organic Compound (VOC) Emissions From the Synthetic Organic Chemical Manufacturing Industry (SOCMI) Air Oxidation Unit Processes |  |  | X |
JJJ | Petroleum Dry Cleaners |  |  | X |
KKK | Equipment Leaks of VOC From Onshore Natural Gas Processing Plants |  |  | X |
LLL | Onshore Natural Gas Processing: SO2 Emissions |  |  | X |
MMM | (Reserved) |  |  |  |
NNN | Volatile Organic Compound (VOC) Emissions From Synthetic Organic Chemical Manufacturing Industry (SOCMI) Distillation Operations |  |  | X |
OOO | Nonmetallic Mineral Processing Plants |  |  | X |
PPP | Wool Fiberglass Insulation Manufacturing Plants |  |  | X |
QQQ | VOC Emissions From Petroleum Refinery Wastewater Systems |  | X | X |
RRR | Volatile Organic Compound Emissions from Synthetic Organic Chemical Manufacturing Industry (SOCMI) Reactor Processes |  |  | X |
SSS | Magnetic Tape Coating Facilities |  | X | X |
TTT | Industrial Surface Coating: Surface Coating of Plastic Parts for Business Machines |  | X | X |
UUU | Calciners and Dryers in Mineral Industries |  |  | X |
VVV | Polymeric Coating of Supporting Substrates Facilities |  |  | X |
WWW | Municipal Solid Waste Landfills |  |  | X |

(ix) Delegations for Tuolumne County Air Pollution Control District, Ventura County Air Pollution Control District, and Yolo-Solano Air Quality Management District are shown in the following table:

Delegation Status for New Source Performance Standards for Tuolumne County Air Pollution Control District, Ventura County Air Pollution Control District, and Yolo-Solano Air Quality Management District
| Subpart | Air pollution control agency: Tuolumne County APCD | Air pollution control agency: Ventura County APCD | Air pollution control agency: Yolo-Solano AQMD
A | General Provisions |  | X | X
D | Fossil-Fuel Fired Steam Generators Constructed After August 17, 1971 |  | X | X
Da | Electric Utility Steam Generating Units Constructed After September 18, 1978 |  | X |
Db | Industrial-Commercial-Institutional Steam Generating Units |  | X | X
Dc | Small Industrial Steam Generating Units |  | X |
E | Incinerators |  | X |
Ea | Municipal Waste Combustors Constructed After December 20, 1989 and On or Before September 20, 1994 |  | X |
Eb | Municipal Waste Combustors Constructed After September 20, 1994 |  |  |
Ec | Hospital/Medical/Infectious Waste Incinerators for Which Construction is Commenced After June 20, 1996 |  |  |
F | Portland Cement Plants |  | X |
G | Nitric Acid Plants |  | X |
H | Sulfuric Acid Plants |  | X |
I | Hot Mix Asphalt Facilities |  | X | X
J | Petroleum Refineries |  | X | X
K | Storage Vessels for Petroleum Liquids for Which Construction, Reconstruction, or Modification Commenced After June 11, 1973, and Prior to May 19, 1978 |  | X | X
Ka | Storage Vessels for Petroleum Liquids for Which Construction, Reconstruction, or Modification Commenced After May 18, 1978, and Prior to July 23, 1984 |  | X |
Kb | Volatile Organic Liquid Storage Vessels (Including Petroleum Liquid Storage Vessels) for Which Construction, Reconstruction, or Modification Commenced After July 23, 1984 |  | X |
L | Secondary Lead Smelters |  | X |
M | Secondary Brass and Bronze Production Plants |  | X |
N | Primary Emissions from Basic Oxygen Process Furnaces for Which Construction is Commenced After June 11, 1973 |  | X |
Na | Secondary Emissions from Basic Oxygen Process Steelmaking Facilities for Which Construction is Commenced After January 20, 1983 |  | X |
O | Sewage Treatment Plants |  | X |
P | Primary Copper Smelters |  | X |
Q | Primary Zinc Smelters |  | X |
R | Primary Lead Smelters |  | X |
S | Primary Aluminum Reduction Plants |  | X |
T | Phosphate Fertilizer Industry: Wet Process Phosphoric Acid Plants |  | X |
U | Phosphate Fertilizer Industry: Superphosphoric Acid Plants |  | X |
V | Phosphate Fertilizer Industry: Diammonium Phosphate Plants |  | X |
W | Phosphate Fertilizer Industry: Triple Superphosphate Plants |  | X |
X | Phosphate Fertilizer Industry: Granular Triple Superphosphate Storage Facilities |  | X |
Y | Coal Preparation Plants |  | X |
Z | Ferroalloy Production Facilities |  | X |
AA | Steel Plants: Electric Arc Furnaces Constructed After October 21, 1974 and On or Before August 17, 1983 |  | X | X
AAa | Steel Plants: Electric Arc Furnaces and Argon-Oxygen Decarburization Vessels Constructed After August 7, 1983 |  | X |
BB | Kraft pulp Mills |  | X |
CC | Glass Manufacturing Plants |  | X |
DD | Grain Elevators |  | X |
EE | Surface Coating of Metal Furniture |  | X |
FF | (Reserved) |  |  |
GG | Stationary Gas Turbines |  | X |
HH | Lime Manufacturing Plants |  | X |
KK | Lead-Acid Battery Manufacturing Plants |  | X |
LL | Metallic Mineral Processing Plants |  | X |
MM | Automobile and Light Duty Trucks Surface Coating Operations |  | X |
NN | Phosphate Rock Plants |  | X |
PP | Ammonium Sulfate Manufacture |  | X |
QQ | Graphic Arts Industry: Publication Rotogravure Printing |  | X |
RR | Pressure Sensitive Tape and Label Surface Coating Operations |  | X |
SS | Industrial Surface Coating: Large Appliances |  | X |
TT | Metal Coil Surface Coating |  | X |
UU | Asphalt Processing and Asphalt Roofing Manufacture |  | X |
VV | Equipment Leaks of VOC in the Synthetic Organic Chemicals Manufacturing Industry |  | X |
WW | Beverage Can Surface Coating Industry |  | X |
XX | Bulk Gasoline Terminals |  |  |
AAA | New Residential Wool Heaters |  | X |
BBB | Rubber Tire Manufacturing Industry |  | X |
CCC | (Reserved) |  |  |
DDD | Volatile Organic Compounds (VOC) Emissions from the Polymer Manufacturing Industry |  | X |
EEE | (Reserved) |  |  |
FFF | Flexible Vinyl and Urethane Coating and Printing |  | X |
GGG | Equipment Leaks of VOC in Petroleum Refineries |  | X |
HHH | Synthetic Fiber Production Facilities |  | X |
III | Volatile Organic Compound (VOC) Emissions From the Synthetic Organic Chemical Manufacturing Industry (SOCMI) Air Oxidation Unit Processes |  | X |
JJJ | Petroleum Dry Cleaners |  | X |
KKK | Equipment Leaks of VOC From Onshore Natural Gas Processing Plants |  | X |
LLL | Onshore Natural Gas Processing: SO2 Emissions |  | X |
MMM | (Reserved) |  |  |
NNN | Volatile Organic Compound (VOC) Emissions From Synthetic Organic Chemical Manufacturing Industry (SOCMI) Distillation Operations |  | X |
OOO | Nonmetallic Mineral Processing Plants |  | X | X
PPP | Wool Fiberglass Insulation Manufacturing Plants |  | X |
QQQ | VOC Emissions From Petroleum Refinery Wastewater Systems |  | X |
RRR | Volatile Organic Compound Emissions from Synthetic Organic Chemical Manufacturing Industry (SOCMI) Reactor Processes |  | X |
SSS | Magnetic Tape Coating Facilities |  | X |
TTT | Industrial Surface Coating: Surface Coating of Plastic Parts for Business Machines |  | X |
UUU | Calciners and Dryers in Mineral Industries |  | X |
VVV | Polymeric Coating of Supporting Substrates Facilities |  | X |
WWW | Municipal Solid Waste Landfills |  | X | X

(3) Hawaii. The following table identifies delegations as of June 15, 2001:

Delegation Status for New Source Performance Standards for Hawaii
| Subpart | Hawaii
A | General Provisions | X
D | Fossil-Fuel Fired Steam Generators Constructed After August 17, 1971 | X
Da | Electric Utility Steam Generating Units Constructed After September 18, 1978 | X
Db | Industrial-Commercial-Institutional Steam Generating Units | X
Dc | Small Industrial Steam Generating Units | X
E | Incinerators | X
Ea | Municipal Waste Combustors Constructed After December 20, 1989 and On or Before September 20, 1994 | X
Eb | Municipal Waste Combustors Constructed After September 20, 1994 | X
Ec | Hospital/Medical/Infectious Waste Incinerators for Which Construction is Commenced After June 20, 1996 |
F | Portland Cement Plants | X
G | Nitric Acid Plants |
H | Sulfuric Acid Plants |
I | Hot Mix Asphalt Facilities | X
J | Petroleum Refineries | X
K | Storage Vessels for Petroleum Liquids for Which Construction, Reconstruction, or Modification Commenced After June 11, 1973, and Prior to May 19, 1978 |
Ka | Storage Vessels for Petroleum Liquids for Which Construction, Reconstruction, or Modification Commenced After May 18, 1978, and Prior to July 23, 1984 | X
Kb | Volatile Organic Liquid Storage Vessels (Including Petroleum Liquid Storage Vessels) for Which Construction, Reconstruction, or Modification Commenced After July 23, 1984 | X
L | Secondary Lead Smelters |
M | Secondary Brass and Bronze Production Plants |
N | Primary Emissions from Basic Oxygen Process Furnaces for Which Construction is Commenced After June 11, 1973 |
Na | Secondary Emissions from Basic Oxygen Process Steelmaking Facilities for Which Construction is Commenced After January 20, 1983 |
O | Sewage Treatment Plants | X
P | Primary Copper Smelters |
Q | Primary Zinc Smelters |
R | Primary Lead Smelters |
S | Primary Aluminum Reduction Plants |
T | Phosphate Fertilizer Industry: Wet Process Phosphoric Acid Plants |
U | Phosphate Fertilizer Industry: Superphosphoric Acid Plants |
V | Phosphate Fertilizer Industry: Diammonium Phosphate Plants |
W | Phosphate Fertilizer Industry: Triple Superphosphate Plants |
X | Phosphate Fertilizer Industry: Granular Triple Superphosphate Storage Facilities |
Y | Coal Preparation Plants | X
Z | Ferroalloy Production Facilities |
AA | Steel Plants: Electric Arc Furnaces Constructed After October 21, 1974 and On or Before August 17, 1983 | X
AAa | Steel Plants: Electric Arc Furnaces and Argon-Oxygen Decarburization Vessels Constructed After August 7, 1983 | X
BB | Kraft pulp Mills |
CC | Glass Manufacturing Plants |
DD | Grain Elevators |
EE | Surface Coating of Metal Furniture |
FF | (Reserved) |
GG | Stationary Gas Turbines | X
HH | Lime Manufacturing Plants |
KK | Lead-Acid Battery Manufacturing Plants |
LL | Metallic Mineral Processing Plants |
MM | Automobile and Light Duty Trucks Surface Coating Operations |
NN | Phosphate Rock Plants |
PP | Ammonium Sulfate Manufacture |
QQ | Graphic Arts Industry: Publication Rotogravure Printing |
RR | Pressure Sensitive Tape and Label Surface Coating Operations |
SS | Industrial Surface Coating: Large Appliances |
TT | Metal Coil Surface Coating |
UU | Asphalt Processing and Asphalt Roofing Manufacture |
VV | Equipment Leaks of VOC in the Synthetic Organic Chemicals Manufacturing Industry | X
WW | Beverage Can Surface Coating Industry | X
XX | Bulk Gasoline Terminals | X
AAA | New Residential Wool Heaters |
BBB | Rubber Tire Manufacturing Industry |
CCC | (Reserved) |
DDD | Volatile Organic Compounds (VOC) Emissions from the Polymer Manufacturing Industry |
EEE | (Reserved) |
FFF | Flexible Vinyl and Urethane Coating and Printing |
GGG | Equipment Leaks of VOC in Petroleum Refineries | X
HHH | Synthetic Fiber Production Facilities |
III | Volatile Organic Compound (VOC) Emissions From the Synthetic Organic Chemical Manufacturing Industry (SOCMI) Air Oxidation Unit Processes |
JJJ | Petroleum Dry Cleaners | X
KKK | Equipment Leaks of VOC From Onshore Natural Gas Processing Plants |
LLL | Onshore Natural Gas Processing: SO2 Emissions |
MMM | (Reserved) |
NNN | Volatile Organic Compound (VOC) Emissions From Synthetic Organic Chemical Manufacturing Industry (SOCMI) Distillation Operations | X
OOO | Nonmetallic Mineral Processing Plants | X
PPP | Wool Fiberglass Insulation Manufacturing Plants |
QQQ | VOC Emissions From Petroleum Refinery Wastewater Systems | X
RRR | Volatile Organic Compound Emissions from Synthetic Organic Chemical Manufacturing Industry (SOCMI) Reactor Processes |
SSS | Magnetic Tape Coating Facilities |
TTT | Industrial Surface Coating: Surface Coating of Plastic Parts for Business Machines |
UUU | Calciners and Dryers in Mineral Industries | X
VVV | Polymeric Coating of Supporting Substrates Facilities | X
WWW | Municipal Solid Waste Landfills |

(4) Nevada. The following table identifies delegations as of June 15, 2001:

Delegation Status for New Source Performance Standards for Nevada
| Subpart | Air pollution control agency: Nevada DEP | Air pollution control agency: Clark County | Air pollution control agency: Washoe County
A | General Provisions | X | X | X
D | Fossil-Fuel Fired Steam Generators Constructed After August 17, 1971 | X | X | X
Da | Electric Utility Steam Generating Units Constructed After September 18, 1978 | X |  |
Db | Industrial-Commercial-Institutional Steam Generating Units |  |  |
Dc | Small Industrial Steam Generating Units |  |  |
E | Incinerators | X | X | X
Ea | Municipal Waste Combustors Constructed After December 20, 1989 and On or Before September 20, 1994 |  |  |
Eb | Municipal Waste Combustors Constructed After September 20, 1994 |  |  |
Ec | Hospital/Medical/Infectious Waste Incinerators for Which Construction is Commenced After June 20, 1996 |  |  |
F | Portland Cement Plants | X | X | X
G | Nitric Acid Plants | X |  | X
H | Sulfuric Acid Plants | X |  | X
I | Hot Mix Asphalt Facilities | X | X | X
J | Petroleum Refineries | X |  | X
K | Storage Vessels for Petroleum Liquids for Which Construction, Reconstruction, or Modification Commenced After June 11, 1973, and Prior to May 19, 1978 | X | X | X
Ka | Storage Vessels for Petroleum Liquids for Which Construction, Reconstruction, or Modification Commenced After May 18, 1978, and Prior to July 23, 1984 | X | X | X
Kb | Volatile Organic Liquid Storage Vessels (Including Petroleum Liquid Storage Vessels) for Which Construction, Reconstruction, or Modification Commenced After July 23, 1984 | X |  |
L | Secondary Lead Smelters | X | X | X
M | Secondary Brass and Bronze Production Plants | X |  | X
N | Primary Emissions from Basic Oxygen Process Furnaces for Which Construction is Commenced After June 11, 1973 | X |  | X
Na | Secondary Emissions from Basic Oxygen Process Steelmaking Facilities for Which Construction is Commenced After January 20, 1983 | X |  |
O | Sewage Treatment Plants | X | X | X
P | Primary Copper Smelters | X | X | X
Q | Primary Zinc Smelters | X | X | X
R | Primary Lead Smelters | X | X | X
S | Primary Aluminum Reduction Plants | X |  | X
T | Phosphate Fertilizer Industry: Wet Process Phosphoric Acid Plants | X |  | X
U | Phosphate Fertilizer Industry: Superphosphoric Acid Plants | X |  | X
V | Phosphate Fertilizer Industry: Diammonium Phosphate Plants | X |  | X
W | Phosphate Fertilizer Industry: Triple Superphosphate Plants | X |  | X
X | Phosphate Fertilizer Industry: Granular Triple Superphosphate Storage Facilities | X |  | X
Y | Coal Preparation Plants | X | X | X
Z | Ferroalloy Production Facilities | X |  | X
AA | Steel Plants: Electric Arc Furnaces Constructed After October 21, 1974 and On or Before August 17, 1983 | X |  | X
AAa | Steel Plants: Electric Arc Furnaces and Argon-Oxygen Decarburization Vessels Constructed After August 7, 1983 | X |  |
BB | Kraft pulp Mills | X |  | X
CC | Glass Manufacturing Plants | X |  | X
DD | Grain Elevators | X | X | X
EE | Surface Coating of Metal Furniture | X | X | X
FF | (Reserved) |  |  |
GG | Stationary Gas Turbines | X | X | X
HH | Lime Manufacturing Plants | X | X | X
KK | Lead-Acid Battery Manufacturing Plants | X | X | X
LL | Metallic Mineral Processing Plants | X | X | X
MM | Automobile and Light Duty Trucks Surface Coating Operations | X | X | X
NN | Phosphate Rock Plants | X | X | X
PP | Ammonium Sulfate Manufacture | X |  | X
QQ | Graphic Arts Industry: Publication Rotogravure Printing | X | X | X
RR | Pressure Sensitive Tape and Label Surface Coating Operations | X |  | X
SS | Industrial Surface Coating: Large Appliances | X | X | X
TT | Metal Coil Surface Coating | X | X | X
UU | Asphalt Processing and Asphalt Roofing Manufacture | X | X | X
VV | Equipment Leaks of VOC in the Synthetic Organic Chemicals Manufacturing Industry | X | X | X
WW | Beverage Can Surface Coating Industry | X |  | X
XX | Bulk Gasoline Terminals | X |  | X
AAA | New Residential Wool Heaters |  |  |
BBB | Rubber Tire Manufacturing Industry |  |  |
CCC | (Reserved) |  |  |
DDD | Volatile Organic Compounds (VOC) Emissions from the Polymer Manufacturing Industry |  |  |
EEE | (Reserved) |  |  |
FFF | Flexible Vinyl and Urethane Coating and Printing | X |  | X
GGG | Equipment Leaks of VOC in Petroleum Refineries | X |  | X
HHH | Synthetic Fiber Production Facilities | X |  | X
III | Volatile Organic Compound (VOC) Emissions From the Synthetic Organic Chemical Manufacturing Industry (SOCMI) Air Oxidation Unit Processes |  |  |
JJJ | Petroleum Dry Cleaners | X | X | X
KKK | Equipment Leaks of VOC From Onshore Natural Gas Processing Plants | X |  |
LLL | Onshore Natural Gas Processing: SO2 Emissions | X |  |
MMM | (Reserved) |  |  |
NNN | Volatile Organic Compound (VOC) Emissions From Synthetic Organic Chemical Manufacturing Industry (SOCMI) Distillation Operations |  |  |
OOO | Nonmetallic Mineral Processing Plants | X |  | X
PPP | Wool Fiberglass Insulation Manufacturing Plants | X |  | X
QQQ | VOC Emissions From Petroleum Refinery Wastewater Systems |  |  |
RRR | Volatile Organic Compound Emissions from Synthetic Organic Chemical Manufacturing Industry (SOCMI) Reactor Processes |  |  |
SSS | Magnetic Tape Coating Facilities |  |  |
TTT | Industrial Surface Coating: Surface Coating of Plastic Parts for Business Machines |  |  |
UUU | Calciners and Dryers in Mineral Industries |  |  |
VVV | Polymeric Coating of Supporting Substrates Facilities |  |  |
WWW | Municipal Solid Waste Landfills |  |  |

(5) Guam. The following table identifies delegations as of June 15, 2001:

Delegation Status for New Source Performance Standards for Guam
| Subpart | Guam
A | General Provisions | X
D | Fossil-Fuel Fired Steam Generators Constructed After August 17, 1971 | X
Da | Electric Utility Steam Generating Units Constructed After September 18, 1978 |
Db | Industrial-Commercial-Institutional Steam Generating Units |
Dc | Small Industrial Steam Generating Units |
E | Incinerators |
Ea | Municipal Waste Combustors Constructed After December 20, 1989 and On or Before September 20, 1994 |
Eb | Municipal Waste Combustors Constructed After September 20, 1994 |
Ec | Hospital/Medical/Infectious Waste Incinerators for Which Construction is Commenced After June 20, 1996 |
F | Portland Cement Plants | X
G | Nitric Acid Plants |
H | Sulfuric Acid Plants |
I | Hot Mix Asphalt Facilities | X
J | Petroleum Refineries | X
K | Storage Vessels for Petroleum Liquids for Which Construction, Reconstruction, or Modification Commenced After June 11, 1973, and Prior to May 19, 1978 | X

PART 61—[AMENDED]

1. The authority citation for part 61 continues to read as follows:

Authority: 42 U.S.C. 7401 et seq.

Subpart A—General Provisions

2. Section 61.04 is amended:

a. In paragraph (a) by revising the address for “Region IX”.

b. By revising paragraph (b)(D).

c. By revising paragraph (b)(F).

d. By revising paragraph (b)(M).

e. By revising paragraph (b)(DD).

f. By adding paragraph (b)(AAA).

g. By adding paragraph (b)(DDD).

h. By adding paragraph (b)(EEE).

i. By adding paragraph (c)(9).

The revisions read as follows:

§ 61.04 Address.

(a) * * *

Region IX (American Samoa, Arizona, California, Guam, Hawaii, Nevada), Director, Air Division, U.S. Environmental Protection Agency, 75 Hawthorne Street, San Francisco, CA 94105.

* * * * *

(b) * * *

(D) Arizona:

Arizona Department of Environmental Quality, Office of Air Quality, P.O. Box 600, Phoenix, AZ 85001-0600.

Maricopa County Air Pollution Control, 2406 S. 24th Street, Suite E-214, Phoenix, AZ 85034.

Pima County Department of Environmental Quality, 130 West Congress Street, 3rd Floor, Tucson, AZ 85701-1317.

Pinal County Air Quality Control District, Building F, 31 North Pinal Street, Florence, AZ 85232.

Note: For tables listing the delegation status of agencies in Region IX, see paragraph (c)(9) of this section.

* * * * *

(F) California:

Amador County Air Pollution Control District, 500 Argonaut Lane, Jackson, CA 95642.

Antelope Valley Air Pollution Control District, 43301 Division Street, Suite 206, P.O. Box 4409, Lancaster, CA 93539-4409.

Bay Area Air Quality Management District, 939 Ellis Street, San Francisco, CA 94109.

Butte County Air Pollution Control District, 2525 Dominic Drive, Suite J, Chico, CA 95928-7184.

Calaveras County Air Pollution Control District, 891 Mountain Ranch Rd., San Andreas, CA 95249.

Colusa County Air Pollution Control District, 100 Sunrise Blvd., Suite F, Colusa, CA 95932-3246.

El Dorado County Air Pollution Control District, 2850 Fairlane Court, Bldg. C, Placerville, CA 95667-4100.

Feather River Air Quality Management District, 938 14th Street, Marysville, CA 95901-4149.

Glenn County Air Pollution Control District, 720 N. Colusa Street, P.O. Box 351, Willows, CA 95988-0351.

Great Basin Unified Air Pollution Control District, 157 Short Street, Suite 6, Bishop, CA 93514-3537.

Imperial County Air Pollution Control District, 150 South Ninth Street, El Centro, CA 92243-2801.

Kern County Air Pollution Control District (Southeast Desert), 2700 M. Street, Suite 302, Bakersfield, CA 93301-2370.

Lake County Air Quality Management District, 885 Lakeport Blvd., Lakeport, CA 95453-5405.

Lassen County Air Pollution Control District, 175 Russell Avenue, Susanville, CA 96130-4215.

Mariposa County Air Pollution Control District, P.O. Box 5, Mariposa, CA 95338.

Mendocino County Air Pollution Control District, 306 E. Gobbi Street, Ukiah, CA 95482-5511.

Modoc County Air Pollution Control District, 202 W. 4th Street, Alturas, CA 96101-3915.

Mojave Desert Air Quality Management District, 14306 Part Avenue, Victorville, CA 92392-2310.

Monterey Bay Unified Air Pollution Control District, 24580 Silver Cloud Ct., Monterey, CA 93940-6536.

North Coast Unified Air Pollution Control District, 2300 Myrtle Avenue, Eureka, CA 95501-3327.

Northern Sierra Air Quality Management District, 200 Litton Drive, P.O. Box 2509, Grass Valley, CA 95945-2509.

Northern Sonoma County Air Pollution Control District, 150 Matheson Street, Healdsburg, CA 95448-4908.

Placer County Air Pollution Control District, DeWitt Center, 11464 “B” Avenue, Auburn, CA 95603-2603.

Sacramento Metropolitan Air Quality Management District, 777 12th Street, Third Floor, Sacramento, CA 95814-1908.

San Diego County Air Pollution Control District, 9150 Chesapeake Drive, San Diego, CA 92123-1096.

San Joaquin Valley Unified Air Pollution Control District, 1999 Tuolumne Street, 1990 E. Gettysburg, Fresno, CA 93726.

San Luis Obispo County Air Pollution Control District, 3433 Roberto Court, San Luis Obispo, CA 93401-7126.

Santa Barbara County Air Pollution Control District, 26 Castilian Drive, B-23, Goleta, CA 93117-3027.

Shasta County Air Quality Management District, 1855 Placer Street, Suite 101, Redding, CA 96001-1759.

Siskiyou County Air Pollution Control District, 525 So. Foothill Drive, Yreka, CA 96097-3036.

South Coast Air Quality Management District, 21865 E. Copley Drive, Diamond Bar, CA 91765-4182.

Tehama County Air Pollution Control District, P.O. Box 38 (1750 Walnut Street), Red Bluff, CA 96080-0038.

Tuolumne County Air Pollution Control District, 2 South Green Street, Sonora, CA 95370-4618.

Ventura County Air Pollution Control District, 669 County Square Drive, Ventura, CA 93003-5417.

Yolo-Solano Air Quality Management District, 1947 Galileo Ct., Suite 103, Davis, CA 95616-4882.

Note: For tables listing the delegation status of agencies in Region IX, see paragraph (c)(9) of this section.

* * * * *

(M) Hawaii:

Hawaii State Agency, Clean Air Branch, 919 Ala Moana Blvd., 3rd Floor, Post Office Box 3378, Honolulu HI 96814.

Note: For tables listing the delegation status of agencies in Region IX, see paragraph (c)(9) of this section.

* * * * *

(DD) Nevada:

Nevada State Agency, Air Pollution Control, Bureau of Air Quality/Division of Environmental Protection, 333 West Nye Lane, Carson City, NV 89710.

Clark County Department of Air Quality Management, 500 S. Grand Central Parkway, First floor, Las Vegas, NV 89155-1776.

Washoe County Air Pollution Control, Washoe County District Air Quality Management, P.O. Box 11130, 1001 E. Ninth Street, Reno, NV 89520.

Note: For tables listing the delegation status of agencies in Region IX, see paragraph (c)(9) of this section.

* * * * *

(AAA) Territory of Guam: Guam Environmental Protection Agency, Post Office Box 2999, Agana, Guam 96910.

Note: For tables listing the delegation status of agencies in Region IX, see paragraph (c)(9) of this section.

* * * * *

(DDD) American Samoa Environmental Protection Agency, Pago Pago, American Samoa 96799.

Note: For tables listing the delegation status of agencies in Region IX, see paragraph (d) of this section.

(EEE) Commonwealth of the Northern Mariana Islands, Division of Environmental Quality, P.O. Box 1304, Saipan, MP 96950.

Note: For tables listing the delegation status of agencies in Region IX, see paragraph (d) of this section.

* * * * *

(c) * * *

(9) The following tables list the specific Part 61 standards that have been delegated unchanged to the air pollution control agencies in Region IX. The (X) symbol is used to indicate each standard that has been delegated. The following provisions of this subpart are not delegated: §§ 61.04(b), 61.04(c), 61.05(c), 61.11, 61.12(d), 61.13(h)(1)(ii), 61.14(d), 61.14(g)(1)(ii), and 61.16.

(i) Arizona. The following table identifies delegations as of June 15, 2001:

Delegation Status for National Emissions Standards for Hazardous Air Pollutants for Arizona
| Subpart | Air pollution control agency: Arizona DEQ | Air pollution control agency: Maricopa County | Air pollution control agency: Pima County | Air pollution control agency: Pinal County
A | General Provisions | X | X | X | X
B | Radon Emissions From Underground Uranium |  |  |  |
C | Beryllium | X | X | X | X
D | Beryllium Rocket Motor Firing | X | X | X | X
E | Mercury | X | X | X | X
F | Vinyl Chloride | X | X | X | X
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene | X | X | X | X
K | Radionuclide Emissions From Elemental Phosphorus Plants |  |  |  |
L | Benzene Emissions from Coke By-Product Recovery Plants | X | X | X | X
M | Asbestos | X | X | X | X
N | Inorganic Arsenic Emissions From Glass Manufacturing Plants | X | X |  | X
O | Inorganic Arsenic Emissions From Primary Copper Smelters | X | X |  | X
P | Inorganic Arsenic Emissions From Arsenic Trioxide and Metallic Arsenic Production Facilities | X | X |  |
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) | X | X | X | X
W | Radon Emissions From Operating Mill Tailings |  |  |  |
X | (Reserved) |  |  |  |
Y | Benzene Emissions From Benzene Storage Vessels | X | X | X | X
Z-AA | (Reserved) |  |  |  |
BB | Benzene Emissions From Benzene Transfer Operations | X | X | X | X
CC-EE | (Reserved) |  |  |  |
FF | Benzene Waste Operations | X | X | X | X

(ii) California. The following tables identify delegations for each of the local air pollution control agencies of California.

(A) Delegations for Amador County Air Pollution Control District, Antelope Valley Air Pollution Control District, Bay Area Air Quality Management District, and Butte County Air Pollution Control District are shown in the following table:

Delegation Status for National Emissions Standards for Hazardous Air Pollutants for Amador County APCD, Antelope Valley APCD, Bay Area AQMD, and Butte County AQMD
| Subpart | Air pollution control agency: Amador County APCD | Air pollution control agency: Antelope Valley APCD | Air pollution control agency: Bay Area AQMD | Air pollution control agency: Butte County AQMD
A | General Provisions |  |  | X |
B | Radon Emissions From Underground Uranium |  |  |  |
C | Beryllium |  |  | X |
D | Beryllium Rocket Motor Firing |  |  | X |
E | Mercury |  |  | X |
F | Vinyl Chloride |  |  | X |
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene |  |  |  |
K | Radionuclide Emissions From Elemental Phosphorus Plants |  |  |  |
L | Benzene Emissions from Coke By-Product Recovery Plants |  |  | X |
M | Asbestos |  |  | X |
N | Inorganic Arsenic Emissions From Glass Manufacturing Plants |  |  |  |
O | Inorganic Arsenic Emissions From Primary Copper Smelters |  |  |  |
P | Inorganic Arsenic Emissions From Arsenic Trioxide and Metallic Arsenic Production Facilities |  |  |  |
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) |  |  |  |
W | Radon Emissions From Operating Mill Tailings |  |  |  |
X | (Reserved) |  |  |  |
Y | Benzene Emissions From Benzene Storage Vessels |  |  | X |
Z-AA | (Reserved) |  |  |  |
BB | Benzene Emissions From Benzene Transfer Operations |  |  | X |
CC-EE | (Reserved) |  |  |  |
FF | Benzene Waste Operations |  |  | X |

(B) [Reserved]

(C) Delegations for Glenn County Air Pollution Control District, Great Basin Unified Air Pollution Control District, Imperial County Air Pollution Control District, and Kern County Air Pollution Control District are shown in the following table:

Delegation Status for National Emissions Standards for Hazardous Air Pollutants for Glenn County APCD, Great Basin Unified APCD, Imperial County APCD, and Kern County APCD
| Subpart | Air pollution control agency: Glenn County APCD | Air pollution control agency: Great Basin Unified APCD | Air pollution control agency: Imperial County APCD | Air pollution control agency: Kern County APCD
A | General Provisions |  | X |  | X
B | Radon Emissions From Underground Uranium |  |  |  |
C | Beryllium |  | X |  | X
D | Beryllium Rocket Motor Firing |  | X |  | X
E | Mercury |  | X |  | X
F | Vinyl Chloride |  |  |  | X
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene |  |  |  | X
K | Radionuclide Emissions From Elemental Phosphorus Plants |  |  |  |
L | Benzene Emissions from Coke By-Product Recovery Plants |  |  |  | X
M | Asbestos |  | X |  | X
N | Inorganic Arsenic Emissions From Glass Manufacturing Plants |  |  |  | X
O | Inorganic Arsenic Emissions From Primary Copper Smelters |  |  |  | X
P | Inorganic Arsenic Emissions From Arsenic Trioxide and Metallic Arsenic Production Facilities |  |  |  | X
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) |  |  |  | X
W | Radon Emissions From Operating Mill Tailings |  |  |  |
X | (Reserved) |  |  |  |
Y | Benzene Emissions From Benzene Storage Vessels |  |  |  | X
Z-AA | (Reserved) |  |  |  |
BB | Benzene Emissions From Benzene Transfer Operations |  |  |  | X
CC-EE | (Reserved) |  |  |  |
FF | Benzene Waste Operations |  |  |  | X

(D) Delegations for Lake County Air Quality Management District, Lassen County Air Pollution Control District, Mariposa County Air Pollution Control District, and Mendocino County Air Pollution Control District are shown in the following table:

Delegation Status for National Emissions Standards for Hazardous Air Pollutants for Lake County Air Quality Management District, Lassen County Air Pollution Control District, Mariposa County Air Pollution Control District, and Mendocino County Air Pollution Control District
| Subpart | Air pollution control agency: Lake County AQMD | Air pollution control agency: Lassen County APCD | Air pollution control agency: Mariposa County AQMD | Air pollution control agency: Mendocino County AQMD
A | General Provisions | X |  | X
B | Radon Emissions From Underground Uranium |  |  |  |
C | Beryllium | X |  |  | X
D | Beryllium Rocket Motor Firing | X |  |  | X
E | Mercury | X |  |  | X
F | Vinyl Chloride |  |  |  | X
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benze |  |  |  |
K | Radionuclide Emissions From Elemental Phosphorus Plants |  |  |  |
L | Benzene Emissions from Coke By-Product Recovery Plants |  |  |  |
M | Asbestos | X |  |  | X

(E) Delegations for Modoc County Air Pollution Control District, Mojave Desert Air Quality Management District, Monterey Bay Unified Air Pollution Control District, and North Coast Unified Air Pollution Control District are shown in the following table:

Delegation Status for National Emissions Standards for Hazardous Air Pollutants for Modoc County Air Pollution Control District, Mojave Desert Air Quality Management District, Monterey Bay Unified Air Pollution Control District, and North Coast Unified Air Pollution Control District
| Subpart | Air pollution control agency: Modoc County APCD | Air pollution control agency: Mojave Desert AQMD | Air pollution control agency: Monterey Bay Unified APCD | Air pollution control agency: North Coast Unified AQMD
A | General Provisions | X | X | X | X
B | Radon Emissions From Underground Uranium |  |  |  |
C | Beryllium | X | X | X | X
D | Beryllium Rocket Motor Firing | X | X | X | X
E | Mercury | X | X | X | X
F | Vinyl Chloride | X |  | X | X
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene | X |  | X | X
K | Radionuclide Emissions From Elemental Phosphorus Plants |  |  |  |
L | Benzene Emissions from Coke By-Product Recovery Plants |  |  | X | X
M | Asbestos | X | X | X | X
N | Inorganic Arsenic Emissions From Glass Manufacturing Plants |  |  | X |
O | Inorganic Arsenic Emissions From Primary Copper Smelters | X |  | X |
P | Inorganic Arsenic Emissions From Arsenic Trioxide and Metallic Arsenic Production Facilities | X |  | X |
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) | X |  | X | X
W | Radon Emissions From Operating Mill Tailings |  |  |  |
X | (Reserved) |  |  |  |
Y | Benzene Emissions From Benzene Storage Vessels |  |  | X | X
Z-AA | (Reserved) |  |  |  |
BB | Benzene Emissions From Benzene Transfer Operations |  |  | X |
CC-EE | (Reserved) |  |  |  |
FF | Benzene Waste Operations |  |  | X |

(F) Delegations for Northern Sierra Air Quality Management District, Northern Sonoma County Air Pollution Control District, Placer County Air Pollution Control District, and Sacramento Metropolitan Air Quality Management District are shown in the following table:

Delegation Status for National Emissions Standards for Hazardous Air Pollutants for Northern Sierra Air Quality Management District, Northern Sonoma County Air Pollution Control District, Placer County Air Pollution Control District, and Sacramento Metropolitan Air Quality Management District
| Subpart | Air pollution control agency: Northern Sierra AQMD | Air pollution control agency: Northern Sonoma County APCD | Air pollution control agency: Placer County APCD | Air pollution control agency: Sacramento Metro AQMD
A | General Provisions |  | X |  |
B | Radon Emissions From Underground Uranium |  |  |  |
C | Beryllium |  | X |  |
D | Beryllium Rocket Motor Firing |  | X |  |
E | Mercury |  | X |  |
F | Vinyl Chloride |  | X |  | X
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene |  |  |  |
K | Radionuclide Emissions From Elemental Phosphorus Plants |  |  |  |
L | Benzene Emissions from Coke By-Product Recovery Plants |  |  |  |
M | Asbestos |  | X |  | X

(G) Delegations for San Diego County Air Pollution Control District, San Joaquin Valley Unified Air Pollution Control District, San Luis Obispo County Air Pollution Control District, and Santa Barbara County Air Pollution Control District are shown in the following table:

Delegation Status for National Emissions Standards for Hazardous Air Pollutants for San Diego County Air Pollution Control District, San Joaquin Valley Unified Air Pollution Control District, San Luis Obispo County Air Pollution Control District, and Santa Barbara County Air Pollution Control District
| Subpart | Air pollution control agency: San Diego County APCD | Air pollution control agency: San Joaquin Valley APCD | Air pollution control agency: San Luis Obispo County APCD | Air pollution control agency: Santa Barbara County APCD
A | General Provisions | X | X | X | X
B | Radon Emissions From Underground Uranium |  |  |  |
C | Beryllium | X | X | X | X
D | Beryllium Rocket Motor Firing | X | X | X | X
E | Mercury | X | X | X | X
F | Vinyl Chloride | X | X | X | X
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene |  | X | X | X
K | Radionuclide Emissions From Elemental Phosphorus Plants |  |  |  |
L | Benzene Emissions from Coke By-Product Recovery Plants |  |  | X | X
M | Asbestos | X | X | X | X
N | Inorganic Arsenic Emissions From Glass Manufacturing Plants |  | X | X | X
O | Inorganic Arsenic Emissions From Primary Copper Smelters |  | X | X | X
P | Inorganic Arsenic Emissions From Arsenic Trioxide and Metallic Arsenic Production Facilities |  | X | X | X
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) |  | X | X | X
W | Radon Emissions From Operating Mill Tailings |  |  |  |
X | (Reserved) |  |  |  |
Y | Benzene Emissions From Benzene Storage Vessels |  |  | X | X
Z-AA | (Reserved) |  |  |  |
BB | Benzene Emissions From Benzene Transfer Operations |  |  | X | X
CC-EE | (Reserved) |  |  |  |
FF | Benzene Waste Operations |  | X | X | X

(H) Delegations for Shasta County Air Quality Management District, Siskiyou County Air Pollution Control District, South Coast Air Quality Management District, and Tehama County Air Pollution Control District are shown in the following table:

Delegation Status for National Emissions Standards for Hazardous Air Pollutants for Shasta County Air Quality Management District, Siskiyou County Air Pollution Control District, South Coast Air Quality Management District, and Tehama County Air Pollution Control District
| Subpart | Air pollution control agency: Shasta County AQMD | Air pollution control agency: Siskiyou County APCD | Air pollution control agency: South Coast AQMD | Air pollution control agency: Tehama County APCD
A | General Provisions |  |  | X |
B | Radon Emissions From Underground Uranium |  |  |  |
C | Beryllium | X |  | X |
D | Beryllium Rocket Motor Firing | X |  | X |
E | Mercury | X |  | X |
F | Vinyl Chloride | X |  | X |
G | (Reserved) |  |  |  |
H | Emissions of Radionuclides Other Than Radon From Department of Energy Facilities |  |  |  |
I | Radionuclide Emissions From Federal Facilities Other Than Nuclear Regulatory Commission Licensees and Not Covered by Subpart H |  |  |  |
J | Equipment Leaks (Fugitive Emission Sources) of Benzene |  |  | X |
K | Radionuclide Emissions From Elemental Phosphorus Plants |  |  |  |
L | Benzene Emissions from Coke By-Product Recovery Plants |  |  | X |
M | Asbestos | X |  | X |
N | Inorganic Arsenic Emissions From Glass Manufacturing Plants |  |  | X |
O | Inorganic Arsenic Emissions From Primary Copper Smelters |  |  | X |
P | Inorganic Arsenic Emissions From Arsenic Trioxide and Metallic Arsenic Production Facilities |  |  | X |
Q | Radon Emissions From Department of Energy Facilities |  |  |  |
R | Radon Emissions From Phosphogypsum Stacks |  |  |  |
S | (Reserved) |  |  |  |
T | Radon Emissions From the Disposal of Uranium Mill Tailings |  |  |  |
U | (Reserved) |  |  |  |
V | Equipment Leaks (Fugitive Emission Sources) |  |  | X |
W | Radon Emissions From Operating Mill Tailings |  |  |  |
X | (Reserved) |  |  |  |
Y | Benzene Emissions From Benzene Storage Vessels |  |  | X |
Z-AA | (Reserved) |  |  |  |
BB | Benzene Emissions From Benzene Transfer Operations |  |  | X |
CC-EE | (Reserved) |  |  |  |
FF | Benzene Waste Operations |  |  | X |

(I) Delegations for Tuolumne County Air Pollution Control District, Ventura County Air Pollution Control District, and Yolo-Solano Air Quality Management District are shown in the following table:

Delegation Status for National Emissions Standards for Hazardous Air Pollutants for Tuolumne County Air Pollution Control District, Ventura County Air Pollution Control District, and Yolo-Solano Air Quality Management District
| Subpart | Air pollution control agency: Tuolumne County APCD | Air pollution control agency: Ventura County APCD | Air pollution control agency: Yolo-Solano AQMD
A | General Provisions |  | X |
B | Radon Emissions From Underground Uranium |  |  |
C | Beryllium |  | X |
D | Beryllium Rocket Motor Firing |  | X |
E | Mercury |  | X | X
F | Vinyl Chloride |  | X |
G | (Reserved) |  |  |
H | Emissions of Radionuclides Other Than Radon From Department of Energy Facilities |  |  |
I | Radionuclide Emissions From Federal Facilities Other Than Nuclear Regulatory Commission Licensees and Not Covered by Subpart H |  |  |
J | Equipment Leaks (Fugitive Emission Sources) of Benzene |  | X |
K | Radionuclide Emissions From Elemental Phosphorus Plants |  |  |
L | Benzene Emissions from Coke By-Product Recovery Plants |  | X |
M | Asbestos |  | X | X
N | Inorganic Arsenic Emissions From Glass Manufacturing Plants |  | X |
O | Inorganic Arsenic Emissions From Primary Copper Smelters |  | X |
P | Inorganic Arsenic Emissions From Arsenic Trioxide and Metallic Arsenic Production Facilities |  | X |
Q | Radon Emissions From Department of Energy Facilities |  |  |
R | Radon Emissions From Phosphogypsum Stacks |  |  |
S | (Reserved) |  |  |
T | Radon Emissions From the Disposal of Uranium Mill Tailings |  |  |
U | (Reserved) |  |  |
V | Equipment Leaks (Fugitive Emission Sources) |  | X |
W | Radon Emissions From Operating Mill Tailings |  |  |
X | (Reserved) |  |  |
Y | Benzene Emissions From Benzene Storage Vessels |  | X |
Z-AA | (Reserved) |  |  |
BB | Benzene Emissions From Benzene Transfer Operations |  | X |
CC-EE | (Reserved) |  |  |
FF | Benzene Waste Operations |  | X |

(iii) Hawaii. The following table identifies delegations as of June 15, 2001:

Delegation Status for National Emissions Standards for Hazardous Air Pollutants for Hawaii
| Subpart | Hawaii
A | General Provisions | X
B | Radon Emissions From Underground Uranium |
C | Beryllium |
D | Beryllium Rocket Motor Firing |
E | Mercury | X
F | Vinyl Chloride |
G | (Reserved) |
H | Emissions of Radionuclides Other Than Radon From Department of Energy Facilities |
I | Radionuclide Emissions From Federal Facilities Other Than Nuclear Regulatory Commission Licensees and Not Covered by Subpart H |
J | Equipment Leaks (Fugitive Emission Sources) of Benzene | X
K | Radionuclide Emissions From Elemental Phosphorus Plants |
L | Benzene Emissions from Coke By-Product Recovery Plants |
M | Asbestos |
N | Inorganic Arsenic Emissions From Glass Manufacturing Plants |
O | Inorganic Arsenic Emissions From Primary Copper Smelters |
P | Inorganic Arsenic Emissions From Arsenic Trioxide and Metallic Arsenic Production Facilities |
Q | Radon Emissions From Department of Energy Facilities |
R | Radon Emissions From Phosphogypsum Stacks |
S | (Reserved) |
T | Radon Emissions From the Disposal of Uranium Mill Tailings |
U | (Reserved) |
V | Equipment Leaks (Fugitive Emission Sources) | X
W | Radon Emissions From Operating Mill Tailings |
X | (Reserved) |
Y | Benzene Emissions From Benzene Storage Vessels |
Z-AA | (Reserved) |
BB | Benzene Emissions From Benzene Transfer Operations | X
CC-EE | (Reserved) |
FF | Benzene Waste Operations | X

(iv) Nevada. The following table identifies delegations as of June 15, 2001:

Delegation Status for National Emissions Standards for Hazardous Air Pollutants for Nevada
| Subpart | Air Pollution Control Agency: Nevada DEP | Air Pollution Control Agency: Clark County | Air Pollution Control Agency: Washoe County
A | General Provisions |  | X |
B | Radon Emissions From Underground Uranium |  |  |
C | Beryllium | X | X | X
D | Beryllium Rocket Motor Firing | X | X |
E | Mercury | X | X | X
F | Vinyl Chloride | X | X |
G | (Reserved) |  |  |
H | Emissions of Radionuclides Other Than Radon From Department of Energy Facilities |  |  |
I | Radionuclide Emissions From Federal Facilities Other Than Nuclear Regulatory Commission Licensees and Not Covered by Subpart H |  |  |
J | Equipment Leaks (Fugitive Emission Sources) of Benzene |  |  |
K | Radionuclide Emissions From Elemental Phosphorus Plants |  |  |
L | Benzene Emissions from Coke By-Product Recovery Plants |  |  |
M | Asbestos | X | X | X

* * * * *

[FR Doc. 02-10170 Filed 4-25-02; 8:45 am]

BILLING CODE 6560-50-P